POSTAL SERVICE

39 CFR Part 111

New Pricing Eligibility, Intelligent Mail, and Move Update Standards for Domestic Mailing Services and Shipping Services

AGENCY: Postal Service™.

ACTION: Final rule.

SUMMARY: The Postal Service is filing a notice of domestic Mailing Services (and selected Shipping Services) price adjustments, effective in May 2009, with the Postal Regulatory Commission. This final rule provides revised eligibility standards related to the new prices in May 2009.

DATES: Effective May 11, 2009.

FOR FURTHER INFORMATION CONTACT: Bill Chatfield, 202-268-7278.

SUPPLEMENTARY INFORMATION: The Postal Service's final rule includes revised eligibility standards directly related to prices established by the USPS® Governors. We are including a new incentive program for Standard Mail® saturation mailers. The final rule also contains modifications regarding the implementation of the full-service Intelligent Mail® option and a revision to Move Update standards. Additional mail classification changes have been proposed and were published in the Federal Register on February 6, 2009 (74 FR 6250-6257).

We summarize revisions by shape of mail, and then provide updates to Intelligent Mail and Move Update, followed by changes to the mailing standards in Mailing Standards of the United States Postal Service, Domestic Mail Manual (DMM®).

Automation Flats

Effective May 2009, we require all automation flats to bear barcodes that include delivery point routing codes, as currently required for automation letters. We announced this change as part of the final rule for implementation of our Intelligent Mail program, but reiterate it here.

Saturation Mail Volume Incentive Program for Standard Mail

The Postal Service implements an incentive program for saturation mailers who increase their saturation Standard Mail letters or flats volume. This increase can result from a growth in total mailed volume or a growth in market coverage within a defined market. Mailers able to demonstrate an increase in Standard Mail saturation mailing volume from the prior year will qualify for a per-piece credit for the incremental volume during the program period.

This program begins May 11, 2009 and ends May 10, 2010. If successful, the program may be extended, on a year-by-year basis. For approved participants, the program provides a per-piece credit, to the participant's specified Centralized Account Payment System (CAPS) account, for the verified, incremental volume exceeding the base volume demonstrated in the previous year (May 11, 2008 to May 10, 2009). Participating mailers must pay postage through a permit imprint advance deposit account at the time of application and must have a functioning CAPS account prior to the close of the program period. Each permit imprint advance deposit account used for the payment of postage for saturation mailings must be established at a postal facility having PostalOne!® capability.

Mailers wishing to participate in the Standard Mail saturation mail volume incentive program must submit a letter requesting participation to their District Manager, Business Mail Entry (see the postal locator link of the Postal Explorer® at http://pe.usps.com and click on Business Mail Entry for contact information). Those interested in participating must apply between February 11, 2009 and June 11, 2009. Requests must be completed and submitted by an authorized official of the business or nonprofit entity that owns the mail. For the purposes of participation in this program, an entity is defined as the parent organization. Franchisees that are not separate business entities may not apply for the incentive independently of the parent organization. Printers and mailing agents may not request participation on behalf of customers for which they prepare the mail. Participating mailers must be able to demonstrate saturation mailing activity in both the 2007 and 2008 calendar years with a minimum of six saturation mailings in the 2008 calendar year.

Mailers who choose to participate only within a market area, must demonstrate volume growth within a specific USPS sectional center facility (SCF) service area over the program period to qualify for the incentives. For example, a mailer can choose to participate for saturation mail destinating within the Miami FL SCF, but not include mail destinating within the Ft. Lauderdale FL SCF. In this example, the mailer could qualify for a credit with an increase in saturation volume within the Miami FL SCF independently of fluctuations in volumes destinating in other areas.

Mailers requesting eligibility for a market-specific volume increase must submit mailing documentation electronically to the Postal Service using a USPS-approved method (e.g. Mail.dat) at the time of application and for all mailings during their participation in the program. Mailers selecting this option must demonstrate saturation mail volume to ZIP Codes within the specified SCF(s) in both the 2007 and 2008 calendar years and must demonstrate a minimum of six saturation mailings to the specified SCF(s) in the 2008 calendar year.

Changes for Parcels

Standard Mail Parcels and Not-Flat Machinable Pieces (NFMs)

The Postal Service is revising sections 440 and 705.8 of the DMM to change mail preparation requirements and the pricing structure for Standard Mail machinable and irregular parcels, and NFMs prepared in sacks and pallets.

For commercial mailers, there are new sorting standards to reduce the number of sacks in a mailing and to better align parcel-size mail preparation with mail processing.

We are not changing the price categories for machinable parcels; however, for pieces entered at origin, there will no longer be a 5-digit price. To be eligible for BMC prices when presented at origin, machinable parcels must be palletized and weigh a minimum of 200 pounds per pallet.

For irregular parcels and NFMs, the 5-digit and 5-digit scheme price structure remains the same; however this price is only available with destination entry (DBMC, DSCF, or DDU). Since parcel sorters in our processing plants run SCF schemes rather than individual 3-digit schemes, SCF presort prices replace 3-digit presort prices. SCF presort prices are available only when SCF-sorted parcels are entered at a DSCF or DBMC.

We are renaming the ADC price level as the new BMC price level. Similarly, mixed BMC prices replace mixed ADC prices. When parcels sorted to BMCs are entered at origin, the pieces must be palletized and the pallet must contain a minimum of 200 pounds. To support our realignment of the processing of irregular parcels, we add that category to the preambles for DMM Labeling Lists L601 and L602. We remove references to irregular parcels from Labeling List L009 and eliminate L603 and L604 altogether. Existing Content Identifier Numbers (CINs) for irregular parcels are revised to reflect SCF preparation instead of 3-digit preparation and BMC/ASF and mixed BMC preparation instead of ADC and mixed ADC preparation.

We add a new origin-BMC (intra-BMC turnaround) sortation level for all Standard Mail parcels and NFMs with no minimum number of pieces required. Intra-BMC turnaround pieces are those pieces that destinate in the same BMC that serves the office where the pieces are accepted and verified. For example, referring to labeling list L601, BMC Springfield serves ZIP Codes 010-067, 120-123, 128, and 129. Mailers entering pieces at the Northampton MA Post Office (ZIP Code 01060, which is served by the Springfield BMC) must separately sort pieces to ZIP Code ranges 010-067, 120-123, 128, 129, which are within the service area of the Springfield BMC. These pieces are the origin-BMC pieces, also known as intra-BMC turnaround pieces. Mailers use L601 to make this determination. All other residual pieces are sorted as mixed BMC pieces. In summary, mailers with origin-entered mailings must separate intra-BMC turnaround pieces from mixed BMC pieces.

The option to combine certain categories of Standard Mail parcels and Package Services and Parcel Select® parcels in the same mailing remains, but is modified to require minimum 200 pound pallets when Standard Mail parcels are combined with Parcel Select BMC parcels.

Parcel Post and Parcel Select

The new structure for Parcel Post® merges the Intra-BMC and Inter-BMC prices to create a single price (at each weight level) in each zone. This is the same structure that applies to Priority Mail®, and our competitors' prices, and will make price comparisons easier for retail customers. In the new, merged structure, the price for the Local zone is combined with the Zones 1 and 2 prices. We further simplify Parcel Post by eliminating the separate nonmachinable surcharge.

Parcel Select prices for Origin BMC Presort, BMC Presort, and Barcoded Inter-BMC and Barcoded Intra-BMC did not change in January 2009. These prices are calculated based on Parcel Post. Accordingly, these prices are revised concurrently with the price change effective on May 11, 2009. As a result, prices for the overall Parcel Select product increase by an additional one-half of one percent. The nonpresort categories (Barcoded Inter-BMC and Intra-BMC) are merged into one category, Barcoded Nonpresort. We have not made any changes to Parcel Select Destination Entry prices.

Changes for Confirm Service

The Confirm® pricing structure is changing. We add a lower-priced Bronze subscription level for mail owners. Two separate price points for the Gold and Platinum subscription levels are added to distinguish between a mail owner and a mailing agent. The Bronze and Silver subscription levels will be available only to mail owners.

A mail owner is the business entity (or individual) who makes business decisions regarding the mailpiece content, directly benefits from the mailing, and ultimately pays for postage on the mailpiece. A mailing agent is a business entity acting on behalf of one or more mail owners by providing mailing services for which the mail owners compensate the mailing agent. Mailing agents include, but are not limited to: Printer; letter shop; address list provider/manager; mail preparer; postage payment provider; mailing logistics provider; mailing tracking provider; and mailing information manager. A business entity whose services define it as a mailing agent may subscribe as a mail owner, but only for its own mail or the mail of its corporate partners or subsidiaries. A business entity who subscribes as a mail owner under these conditions may separately subscribe as a mailing agent.

Also, the Confirm-based Preshipment Notification, i.e., Electronic Mailing Data (EMD) files and Entry Scans, including the process for accepting EMD files and distributing Entry Scans is eliminated. Customers previously submitted EMD files to receive entry scans at the point of mail induction. However, this process was not fully integrated with mail entry procedures and systems, and was not a robust enough system for piece-level data summarization. This reduced the potential validity of a Confirm Entry Scan as an accurate “start-the-clock” for service measurement, diagnostics, and customer support purposes. The only valid start-the-clock will be from participation in the Intelligent Mail full-service option, which is scheduled to launch in May.

Personalized Stamped Envelopes

We are offering premium options for personalized stamped envelopes. The premium options include: Pressure-sensitive sealing; 10-point or 12-point font size; and a choice of font style and font color.

Updates for Full-Service Intelligent Mail

The Federal Register final rule, published on April 30, 2008, (Volume 73, Number 84, pages 23398-23403), did not include carrier route flats as eligible for full-service Intelligent Mail prices or benefits. We now include some carrier route flats in the full-service option. We provide free start-the-clock information in May 2009 and separate prices in November 2009 for Periodicals, Bound Printed Matter, and Standard Mail carrier route flats (except Standard Mail saturation flats) meeting all full-service requirements. We also provide address information benefits for Periodicals letters and flats meeting all full-service requirements in May 2009.

We are delaying the requirement for all full-service Intelligent Mail mailings to affix pallet placards on the outside of the shrinkwrap from May 2009 until November 2009.

We are also modifying standards that require pink pallet placards for full-service Periodicals mailings to allow a pink identification bar instead of a completely pink background. Although we prefer pallet placards on pink stock, the pink line should provide sufficient visual validation of the class of mail. The DMM changes are effective in May 2009, but mailers who are preparing mailings with Intelligent Mail container placards may use either option immediately.

Move Update Implementation Updates

The Move Update standards effective November 2008 did not include separate prices for mailings that do not meet the new standards. Since Move Update standards apply to presorted, automation, and carrier route mailings, without the establishment of new prices, the proper price for noncompliant mailings is First-Class Mail single-piece regardless of the class of mail originally claimed. Effective May 11, 2009, we are establishing a charge for Standard Mail mailings not meeting Move Update standards of $0.07 per piece in addition to the applicable Standard Mail postage.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

100 Retail Mail Letters, Cards, Flats, and Parcels

101 Physical Standards

* * * * *

7.0 Additional Physical Standards for Parcel Post

* * * * *

[Delete 7.2, Nonmachinable Parcel Post Standards in its entirety].

* * * * *

110 Express Mail

113 Prices and Eligibility

1.0 Express Mail Prices and Fees

* * * * *

1.6 Pickup on Demand

1.6.1 Pickup on Demand Fee

[Revise the first sentence of 1.6.1 by changing the price as follows:]

Per occurrence: $15.30. * * *

* * * * *

120 Priority Mail

123 Prices and Eligibility

1.0 Priority Mail Prices and Fees

* * * * *

1.2 Prices

Exhibit 1.2 Priority Mail Prices—Retail

[Revise footnote 3 of Exhibit 1.2 by changing the price as follows:]

* * * * *

3. For keys and ID devices that weigh:

• Up to 13 ounces, refer to retail First-Class Mail parcel prices.

• More than 13 ounces but not more than 1 pound, $5.69.

• More than 1 pound but not more than 2 pounds, $6.49.

* * * * *

1.6 Prices for Keys and Identification Devices

[Revise table and footnote 1 by changing prices.]

Weight not over (pounds) | Price ¹
1 pound | $5.69
2 pounds ² | 6.49
¹ Prices shown include $0.74 fee.

* * * * *

1.8 Pickup on Demand Fee

[Revise the first sentence of 1.8 by changing the price as follows:]

Per occurrence: $15.30. * * *

* * * * *

130 First-Class Mail

133 Prices and Eligibility

1.0 First-Class Mail Prices and Fees

* * * * *

1.4 Prices for Letters and Cards

[Revise table by changing the prices as follows:]

Weight not over (ounces) | Single-piece ¹
1 | $0.44
2 | 0.61
3 | 0.78
3.5 ² | 0.95
Postcard ³ | 0.28

* * * * *

1.5 Prices for Flats

[Revise table by changing the prices as follows:]

Weight not over (ounces) ¹ | Single-piece
1 | $0.88
2 | 1.05
3 | 1.22
4 | 1.39
5 | 1.56
6 | 1.73
7 | 1.90
8 | 2.07
9 | 2.24
10 | 2.41
11 | 2.58
12 | 2.75
13 | 2.92

* * * * *

1.6 Prices for Parcels

[Revise table and footnote 1 by changing the prices.]

Weight not over (ounces) ¹ | Single-piece
1 | $1.22
2 | 1.39
3 | 1.56
4 | 1.73
5 | 1.90
6 | 2.07
7 | 2.24
8 | 2.41
9 | 2.58
10 | 2.75
11 | 2.92
12 | 3.09
13 | 3.26
¹ For keys and ID devices, add $0.74.
If more than 13 ounces, see retail Priority Mail prices.

* * * * *

1.8 Prices for Keys and Identification Devices

[Revise table and footnote 1 by changing the prices.]

Weight not over (ounces) | Price ¹
1 | $1.96
2 | 2.13
3 | 2.30
4 | 2.47
5 | 2.64
6 | 2.81
7 | 2.98
8 | 3.15
9 | 3.32
10 | 3.49
11 | 3.66
12 | 3.83
13 | 4.00
1 pound | 5.69
2 pounds | 6.49
¹ Prices shown include $0.74 fee.

150 Parcel Post

153 Prices and Eligibility

1.0 Parcel Post Prices and Fees

1.1 Price Eligibility

[Revise introductory text of 1.1 to eliminate reference to Intra/Inter price categories to read as follows:]

Parcel Post prices are calculated based on the zone to which the parcel is addressed and the weight of the parcel. Requirements for Parcel Post prices are as follows:

[Delete current items a and b of 1.1 in their entirety and re-letter current c and d as new a and b.]

* * * * *

[Delete Exhibit 1.1 BMC/ASF Service Areas in its entirety.]

* * * * *

1.5 Computing Postage—Parcel Post With Postage Affixed

[Revise text of 1.5 to eliminate reference to surcharge and links to Parcel Post Prices and Fees to read as follows:]

For each piece, affix the postage for the weight increment and the zone to which the piece is addressed.

1.6 Pickup on Demand Fees

[Revise the first sentence of 1.6 by changing the price as follows:]

Parcel Post only, per occurrence: $15.30. * * *

[Delete 1.7 through 1.12 in their entirety.]

[Insert new 1.7, Prices, and new Exhibit 1.7, Parcel Post Prices, as follows:]

1.7 Prices

Parcel Post prices are calculated based on the zone to which the parcel is addressed, and the weight of the parcel (see Exhibit 1.7).

Exhibit 1.7—Parcel Post Prices
Weight not over (pounds) | Zone ¹: Zones 1 & 2 | Zone ¹: Zone 3 | Zone ¹: Zone 4 | Zone ¹: Zone 5 | Zone ¹: Zone 6 | Zone ¹: Zone 7 | Zone ¹: Zone 8
1 | 4.90 | 4.90 | 4.90 | 4.90 | 4.90 | 4.90 | 4.90
2 | 4.90 | 5.15 | 5.70 | 7.02 | 7.33 | 7.62 | 8.09
3 | 5.45 | 6.20 | 7.05 | 8.18 | 8.85 | 9.27 | 9.92
4 | 6.05 | 7.05 | 7.94 | 9.20 | 10.05 | 10.66 | 11.57
5 | 6.80 | 8.10 | 9.02 | 10.05 | 10.78 | 11.37 | 12.34
6 | 7.50 | 9.20 | 9.94 | 10.94 | 11.45 | 12.02 | 13.03
7 | 8.25 | 10.00 | 10.49 | 11.80 | 12.36 | 13.01 | 14.15
8 | 8.56 | 10.34 | 10.86 | 12.17 | 12.96 | 13.74 | 15.03
9 | 8.87 | 10.69 | 11.24 | 12.55 | 13.56 | 14.47 | 15.90
10 | 9.18 | 11.03 | 11.61 | 12.92 | 14.16 | 15.21 | 16.77
11 | 9.49 | 11.38 | 11.99 | 13.29 | 14.76 | 15.94 | 17.65
12 | 9.80 | 11.72 | 12.36 | 13.66 | 15.36 | 16.67 | 18.52
13 | 10.11 | 12.06 | 12.74 | 14.03 | 15.96 | 17.40 | 19.39
14 | 10.42 | 12.41 | 13.11 | 14.40 | 16.56 | 18.13 | 20.27
15 | 10.73 | 12.75 | 13.49 | 14.77 | 17.16 | 18.86 | 21.14
16 | 11.04 | 13.10 | 13.87 | 15.14 | 17.76 | 19.59 | 22.01
17 | 11.34 | 13.44 | 14.24 | 15.51 | 18.36 | 20.33 | 22.89
18 | 11.65 | 13.79 | 14.60 | 15.99 | 18.96 | 21.06 | 23.76
19 | 11.96 | 14.13 | 14.95 | 16.47 | 19.56 | 21.79 | 24.64
20 | 12.27 | 14.48 | 15.30 | 16.94 | 20.16 | 22.52 | 25.51
21 | 12.58 | 14.82 | 15.66 | 17.42 | 20.76 | 23.25 | 26.38
22 | 12.89 | 15.17 | 16.01 | 17.89 | 21.36 | 23.98 | 27.26
23 | 13.20 | 15.51 | 16.37 | 18.37 | 21.96 | 24.71 | 28.13
24 | 13.51 | 15.86 | 16.72 | 18.84 | 22.56 | 25.45 | 29.00
25 | 13.82 | 16.20 | 17.07 | 19.32 | 23.16 | 26.18 | 29.88
26 | 14.13 | 16.55 | 17.43 | 19.80 | 23.76 | 26.91 | 30.75
27 | 14.44 | 16.89 | 17.78 | 20.27 | 24.36 | 27.64 | 31.63
28 | 14.75 | 17.24 | 18.14 | 20.75 | 24.96 | 28.37 | 32.50
29 | 15.06 | 17.58 | 18.49 | 21.22 | 25.56 | 29.10 | 33.37
30 | 15.37 | 17.93 | 18.85 | 21.70 | 26.16 | 29.83 | 34.25
31 | 15.68 | 18.27 | 19.20 | 22.17 | 26.76 | 30.57 | 35.12
32 | 15.99 | 18.62 | 19.55 | 22.65 | 27.37 | 31.30 | 35.99
33 | 16.30 | 18.96 | 19.91 | 23.13 | 27.97 | 32.03 | 36.87
34 | 16.61 | 19.31 | 20.26 | 23.60 | 28.57 | 32.76 | 37.74
35 | 16.92 | 19.65 | 20.62 | 24.08 | 29.17 | 33.49 | 38.61
36 | 17.07 | 20.00 | 20.97 | 24.55 | 29.77 | 34.22 | 39.49
37 | 17.23 | 20.34 | 21.33 | 25.03 | 30.37 | 34.95 | 40.36
38 | 17.39 | 20.68 | 21.68 | 25.50 | 30.97 | 35.69 | 41.24
39 | 17.54 | 21.03 | 22.03 | 25.98 | 31.57 | 36.42 | 42.11
40 | 17.70 | 21.37 | 22.39 | 26.46 | 32.17 | 37.15 | 42.98
41 | 17.85 | 21.72 | 22.74 | 26.93 | 32.77 | 37.88 | 43.86
42 | 18.01 | 22.06 | 23.10 | 27.41 | 33.37 | 38.61 | 44.73
43 | 18.17 | 22.23 | 23.45 | 27.88 | 33.97 | 39.34 | 45.60
44 | 18.32 | 22.40 | 23.81 | 28.36 | 34.57 | 40.07 | 46.48
45 | 18.48 | 22.57 | 24.16 | 28.83 | 35.17 | 40.81 | 47.35
46 | 18.64 | 22.74 | 24.51 | 29.31 | 35.77 | 41.54 | 48.23
47 | 18.79 | 22.91 | 24.87 | 29.79 | 36.37 | 42.27 | 49.10
48 | 18.95 | 23.08 | 25.22 | 30.26 | 36.97 | 43.00 | 49.97
49 | 19.11 | 23.25 | 25.58 | 30.74 | 37.57 | 43.73 | 50.85
50 | 19.26 | 23.42 | 25.93 | 31.21 | 38.17 | 44.46 | 51.72
51 | 19.42 | 23.59 | 26.29 | 31.69 | 38.77 | 45.19 | 52.59
52 | 19.58 | 23.76 | 26.64 | 32.16 | 39.37 | 45.93 | 53.47
53 | 19.73 | 23.93 | 26.99 | 32.64 | 39.97 | 46.66 | 54.34
54 | 19.89 | 24.10 | 27.35 | 33.12 | 40.57 | 47.39 | 55.21
55 | 20.05 | 24.27 | 27.70 | 33.59 | 41.17 | 48.12 | 56.09
56 | 20.20 | 24.44 | 28.06 | 34.07 | 41.77 | 48.85 | 56.96
57 | 20.36 | 24.61 | 28.41 | 34.54 | 42.37 | 49.58 | 57.84
58 | 20.51 | 24.78 | 28.77 | 35.02 | 42.97 | 50.31 | 58.71
59 | 20.67 | 24.95 | 29.12 | 35.50 | 43.57 | 51.05 | 59.58
60 | 20.83 | 25.12 | 29.47 | 35.97 | 44.17 | 51.78 | 60.46
61 | 20.98 | 25.29 | 29.83 | 36.45 | 44.77 | 52.51 | 61.33
62 | 21.14 | 25.46 | 30.18 | 36.92 | 45.37 | 53.24 | 62.20
63 | 21.30 | 25.63 | 30.54 | 37.40 | 45.97 | 53.97 | 63.08
64 | 21.45 | 25.80 | 30.89 | 37.87 | 46.57 | 54.70 | 63.95
65 | 21.61 | 25.97 | 31.24 | 38.35 | 47.17 | 55.43 | 64.83
66 | 21.77 | 26.14 | 31.60 | 38.83 | 47.77 | 56.17 | 65.70
67 | 21.92 | 26.31 | 31.95 | 39.30 | 48.37 | 56.90 | 66.57
68 | 22.08 | 26.48 | 32.31 | 39.78 | 48.97 | 57.63 | 67.45
69 | 22.24 | 26.65 | 32.66 | 40.25 | 49.57 | 58.36 | 68.32
70 | 22.39 | 26.82 | 33.02 | 40.73 | 50.17 | 59.09 | 69.19
Oversized | 61.80 | 64.65 | 65.94 | 67.89 | 90.92 | 96.82 | 107.16
¹ Parcels that measure in combined length and girth:
• More than 84 inches but not more than 108 inches, and the piece weighs less than 20 pounds, use 20-pound price (balloon price).
• More than 108 inches but not more than 130 inches use oversized prices regardless of weight.

* * * * *

156 Deposit

1.0 Deposit for Parcel Post

* * * * *

1.3 Redirected Mailings

A mailer who presents large mailings of zoned Parcel Post mail may be authorized or directed to deposit such mailings at another postal facility when processing or logistics make such an alternative desirable for the USPS, subject to these conditions:

* * * * *

[Delete item 1.3c in its entirety.]

* * * * *

170 Media Mail

173 Prices and Eligibility

1.0 Media Mail Prices and Fees

* * * * *

1.5 Media Mail Prices

* * * * *

[Revise Exhibit 1.5 by changing the prices as follows:]

Exhibit 1.5 Media Mail Prices
Weight not over (pounds) | Single-piece
1 | $2.38
2 | 2.77
3 | 3.16
4 | 3.55
5 | 3.94
6 | 4.33
7 | 4.72
8 | 5.11
9 | 5.50
10 | 5.89
11 | 6.28
12 | 6.67
13 | 7.06
14 | 7.45
15 | 7.84
16 | 8.23
17 | 8.62
18 | 9.01
19 | 9.40
20 | 9.79
21 | 10.18
22 | 10.57
23 | 10.96
24 | 11.35
25 | 11.74
26 | 12.13
27 | 12.52
28 | 12.91
29 | 13.30
30 | 13.69
31 | 14.08
32 | 14.47
33 | 14.86
34 | 15.25
35 | 15.64
36 | 16.03
37 | 16.42
38 | 16.81
39 | 17.20
40 | 17.59
41 | 17.98
42 | 18.37
43 | 18.76
44 | 19.15
45 | 19.54
46 | 19.93
47 | 20.32
48 | 20.71
49 | 21.10
50 | 21.49
51 | 21.88
52 | 22.27
53 | 22.66
54 | 23.05
55 | 23.44
56 | 23.83
57 | 24.22
58 | 24.61
59 | 25.00
60 | 25.39
61 | 25.78
62 | 26.17
63 | 26.56
64 | 26.95
65 | 27.34
66 | 27.73
67 | 28.12
68 | 28.51
69 | 28.90
70 | 29.29

* * * * *

180 Library Mail

183 Prices and Eligibility

1.0 Library Mail Prices and Fees

* * * * *

1.5 Library Mail Prices

* * * * *

[Revise Exhibit 1.5 by changing the prices as follows:]

Exhibit 1.5—Library Mail Prices
Weight not over (pounds) | Single-piece
1 | $2.26
2 | 2.63
3 | 3.00
4 | 3.37
5 | 3.74
6 | 4.11
7 | 4.48
8 | 4.85
9 | 5.22
10 | 5.59
11 | 5.96
12 | 6.33
13 | 6.70
14 | 7.07
15 | 7.44
16 | 7.81
17 | 8.18
18 | 8.55
19 | 8.92
20 | 9.29
21 | 9.66
22 | 10.03
23 | 10.40
24 | 10.77
25 | 11.14
26 | 11.51
27 | 11.88
28 | 12.25
29 | 12.62
30 | 12.99
31 | 13.36
32 | 13.73
33 | 14.10
34 | 14.47
35 | 14.84
36 | 15.21
37 | 15.58
38 | 15.95
39 | 16.32
40 | 16.69
41 | 17.06
42 | 17.43
43 | 17.80
44 | 18.17
45 | 18.54
46 | 18.91
47 | 19.28
48 | 19.65
49 | 20.02
50 | 20.39
51 | 20.76
52 | 21.13
53 | 21.50
54 | 21.87
55 | 22.24
56 | 22.61
57 | 22.98
58 | 23.35
59 | 23.72
60 | 24.09
61 | 24.46
62 | 24.83
63 | 25.20
64 | 25.57
65 | 25.94
66 | 26.31
67 | 26.68
68 | 27.05
69 | 27.42
70 | 27.79

* * * * *

200 Commercial Mail Letters and Cards

* * * * *

230 First-Class Mail

233 Prices and Eligibility

1.0 Prices and Fees for First-Class Mail

* * * * *

1.3 Presorted and Automation Prices for Cards and Letters

[Delete price chart in its entirety and add text as follows:]

For prices, see Price List—Notice 123.

* * * * *

1.5 Presort Mailing Fee

[Revise fee of 1.5 as follows:]

Presort mailing fee, per 12-month period, per office of mailing: $185.00.

* * * * *

240 Standard Mail

243 Prices and Eligibility

1.0 Prices and Fees for Standard Mail

* * * * *

1.3 Regular Standard Mail—ECR and Automation Prices

[Delete 1.3 price chart in its entirety and add text as follows:]

For prices, see Price List—Notice 123.

1.4 Regular Standard Mail—Nonautomation Prices

[Delete 1.4 price chart in its entirety and add text as follows:]

For prices, see Price List—Notice 123.

1.5 Nonprofit Standard Mail—ECR and Automation Prices

[Delete 1.5 price chart in its entirety and add text as follows:]

For prices, see Price List—Notice 123.

1.6 Nonprofit Standard Mail—Nonautomation Prices

[Delete 1.6 price chart in its entirety and add text as follows:]

For prices, see Price List—Notice 123.

1.7 Fees

1.7.1 Presort Mailing Fee

[Revise fee of 1.7.1 as follows:]

Mailing fee, per 12-month period: $185.00.

1.7.2 Weighted Fee

For return of pieces bearing the ancillary service markings “Address Service Requested” and “Forwarding Service Requested.”

[Revise prices in 1.7.2 Weighted Fee chart as follows:]

Weighted Fee
Single piece weight not over (ounces) | Weighted fee per piece ¹
Card Price | $ 0.70
1 | 1.09
2 | 1.51
3 | 1.93
3.5 | 2.35
¹ Weighted fee equals single-piece First-Class Mail price (plus the nonmachinable surcharge, if applicable) multiplied by 2.472.

* * * * *

[Add new item 1.9 to introduce saturation mail volume incentive pricing as follows:]

1.9 Saturation Mail Volume Incentive Program

1.9.1 Basic Program Eligibility

Mailers of Regular and Nonprofit Standard Mail saturation letters under 243.6.5 that demonstrate a verified increase in mailing volume from the prior year (May 11, 2008 to May 10, 2009), qualify for a per-piece credit to postage paid on the incremental volume, recorded during the established program period, under the following conditions:

a. Qualifying mailers may request a credit to the postage paid on the incremental saturation mailing volume under either of the following conditions:

1. Based on an overall increase in the mailer's total saturation mailing volume.

2. Based on an increase in the volume of saturation mailpieces destinating to ZIP Codes within a specific sectional center facility (SCF) (or group of SCFs) identified by the mailer.

b. Mailers must be able to demonstrate saturation mail volume in both the 2007 and 2008 calendar years. Mailers applying for a credit to the postage paid on saturation mailpieces within a specific SCF must be able to demonstrate saturation mail volume to ZIP Codes within the specified SCF in both the 2007 and 2008 calendar years.

c. Mailers must be able to demonstrate a minimum of six saturation mailings (or six saturation mailings to a specified SCF) in the 2008 calendar year.

d. Mailers must pay saturation postage through a permit imprint advance deposit account at the time of application and must have a functioning Centralized Account Payment System (CAPS) account prior to the close of the program period.

e. Each permit imprint advance deposit account used for the payment of postage for saturation mailings must be established at a Postal facility having PostalOne! capability.

f. Mailers presenting saturation mailpieces within a Negotiated Service Agreement (NSA) or through another Postal Service-sponsored incentive program are not eligible for the saturation mail volume incentive program.

g. Letter-size mailpieces that are not automation-compatible or not barcoded and are mailed at flat-size saturation prices are not eligible for the saturation mail volume incentive program.

1.9.2 Application

Mailers wishing to participate in the saturation mail volume incentive program must submit a letter requesting participation to their district Manager, Business Mail Entry (see the postal locator link on Postal Explorer at http://pe.usps.com for contact information).

a. Mailers must specify their intent to apply for consideration for an overall volume increase under 1.9.1.a1, or for a volume increase to a specific SCF (or group of SCFs) under 1.9.1.a2.

b. Applications must include historical mailing activity demonstrating eligibility for the program as specified under 1.9.1.

c. Applications must specify the mailer's Permit Imprint advance deposit account(s) and Centralized Account Payment System (CAPS) account(s) number(s). Mailers applying for CAPS accounts within the program period must provide their CAPS account number to their district Manager, Business Mail Entry before the end of program period.

d. Applications may be submitted after February 11, 2009, and must be received by the district Manager, Business Mail Entry no later than June 11, 2009.

e. Applications must be completed and submitted by an official of the business or nonprofit entity that owns the mail. For the purposes of participation in this program, an entity that owns the mail is defined as the parent organization. Franchisees that are not separate business entities may not apply for the incentive independently of the parent organization. Printers and mailing agents may not apply for external entities for which they prepare the mail.

1.9.3 Additional Eligibility Standards

Mailers requesting eligibility for a volume increase to a specific SCF (or group of SCFs) under 1.9.1.a2 must submit mailing documentation electronically to the Postal Service using an approved method (e.g. Mail.dat) at the time of application and for the duration of their participation in the program.

1.9.4 Saturation Mail Volume Incentive Credits

Approved program participants demonstrating an increase in saturation mail volume under 1.9 qualify for a per-piece credit to the postage paid on the incremental volume, recorded during the established program period as follows:

a. Standard Mail saturation letters: $0.037 per piece.

b. Nonprofit Standard Mail saturation letters: $0.022 per piece.

1.9.5 Incentive Program Period

The program period is annual and begins May 11, 2009. Approved participants demonstrating an increase in saturation mail volume in accordance with 1.9.0 and otherwise in compliance with the terms of this program, receive a credit to their specified CAPS account after the close of the annual program period.

* * * * *

3.0 Basic Standards for Standard Mail Letters

* * * * *

3.9 Move Update Standard

3.9.1 Basic Standards

[Revise 3.9.1 by inserting a new third and fourth sentence into the introductory text and inserting a new postage adjustment charge as follows:]

* * * Except for mail bearing an alternative address format, addresses used on pieces claiming Standard Mail prices must meet the Move Update standard. When a mailing is determined by the USPS to not be in compliance with the Move Update standard, each piece in the mailing will be subject to a postage adjustment charge of $0.07 per piece. Addresses subject to the Move Update standard must meet these requirements:

[Delete item d of 3.9.1 in its entirety.]

* * * * *

300 Commercial Mail Flats

* * * * *

330 First-Class Mail

333 Prices and Eligibility

* * * * *

1.3 Presorted and Automation Prices for Flats

[Delete 1.3 price chart in its entirety and add text as follows:]

For prices, see Price List—Notice 123.

1.4 Presort Mailing Fee

[Revise fee of 1.4 as follows:]

Presort mailing fee, per 12-month period, per office of mailing: $185.00.

* * * * *

5.0 Additional Eligibility Standards for Automation Price First-Class Mail Flats

5.1 Basic Standards for Automation First-Class Mail

All pieces in a First-Class Mail automation mailing must:

* * * * *

[Revise item e of 5.1 to require a delivery point barcode as follows:]

e. Bear an accurate delivery point POSTNET barcode or Intelligent Mail barcode encoded with the correct delivery point routing code, matching the delivery address and meeting the standards in 302.4.0, and 708.4.0, either on the piece or on an insert showing through a barcode window.

* * * * *

340 Standard Mail

343 Prices and Eligibility

1.0 Prices and Fees for Standard Mail

* * * * *

1.3 Regular Standard Mail—Presorted, Enhanced Carrier Route, and Automation Prices

[Delete 1.3 price chart in its entirety and add text as follows:]

For prices, see Price List—Notice 123.

1.4 Nonprofit Standard Mail—Presorted, Enhanced Carrier Route, and Automation Prices

[Delete 1.4 price chart in its entirety and add text as follows:]

For prices, see Price List—Notice 123.

1.5 Fees

1.5.1 Presort Mailing Fee

[Revise fee of 1.5.1 as follows:]

Mailing fee, per 12-month period: $185.00.

1.5.2 Weighted Fee

For return of pieces bearing the ancillary service markings “Address Service Requested” and “Forwarding Service Requested.”

[Revise fees in 1.5.2 Weighted Fee chart as follows:]

Weighted fee
Single piece weight not over (ounces) | Weighted fee per piece ¹
1 | $2.18
2 | 2.60
3 | 3.02
4 | 3.44
5 | 3.86
6 | 4.28
7 | 4.70
8 | 5.12
9 | 5.54
10 | 5.96
11 | 6.38
12 | 6.80
13 | 7.22
Over 13 but under 16 | 12.24
¹ Weighted fee equals single-piece First-Class Mail or Priority Mail price multiplied by 2.472.

* * * * *

[Add new item 1.7 to introduce saturation mail volume incentive rebates as follows:]

1.7 Saturation Mail Volume Incentive Program

1.7.1 Basic Eligibility

Mailers of Regular and Nonprofit Standard Mail flats under 343.6.5 that demonstrate a verified increase in mailing volume from the prior year (May 11, 2008 to May 10, 2009) qualify for a per-piece credit to postage paid on the incremental volume, recorded during the established program period, under the following conditions:

a. Qualifying mailers may apply for a credit to the postage paid on the incremental saturation mailing volume under either of the following conditions:

1. Based on an overall increase in the mailer's total saturation mailing volume.

2. Based on an increase in the volume of saturation mailpieces destinating to ZIP Codes within a specific sectional center facility (SCF) (or group of SCFs) identified by the mailer.

b. Mailers must be able to demonstrate saturation mail volume in both the 2007 and 2008 calendar years. Mailers requesting a credit to the postage paid on saturation mailpieces within a specific SCF must be able to demonstrate saturation mail volume to ZIP Codes within the specified SCF in both the 2007 and 2008 calendar years.

c. Mailers must be able to demonstrate a minimum of six saturation mailings (or six saturation mailings to a specified SCF) in the 2008 calendar year.

d. Mailers must pay saturation postage through a permit imprint advance deposit account at the time of application and must have a functioning Centralized Account Payment System (CAPS) account prior to the close of the program period.

e. Each permit imprint advance deposit account used for the payment of postage for saturation mailings must be established at a Postal facility having PostalOne! capability.

f. Mailers presenting saturation mailpieces within a Negotiated Service Agreement (NSA) or through another Postal Service-sponsored incentive program are not eligible for the saturation mail volume incentive program.

1.7.2 Application

Mailers wishing to participate in the saturation mail volume incentive program must submit a letter requesting participation to their district Manager, Business Mail Entry (see the postal locator link on the Postal Explorer at http://pe.usps.com for contact information).

a. Mailers must specify their intent to apply for consideration for an overall volume increase under 1.7.1.a1, or for a volume increase to a specific SCF (or group of SCFs) under 1.7.1.a2.

b. Applications must include historical mailing activity demonstrating eligibility for the program as specified under 1.7.1.

c. Applications must specify the mailer's Permit Imprint advance deposit account(s) and Centralized Account Payment System (CAPS) account(s) number(s). Mailers applying for CAPS accounts within the program period must provide their CAPS account number to their district Manager, Business Mail Entry before the end of program period.

d. Applications may be submitted after February 11, 2009 and must be received by the District Manager, Business Mail Entry no later than June 11, 2009.

e. Applications must be completed and submitted by an official of the business or nonprofit entity that owns the mail. For the purposes of participation in this program, an entity that owns the mail is defined as the parent organization. Franchisees that are not separate business entities may not apply for the incentive independently of the parent organization. Printers and mailing agents may not apply for external entities for which they prepare the mail.

1.7.3 Additional Eligibility Standards

Mailers requesting eligibility for a volume increase to a specific SCF (or group of SCFs) under 1.7.1.a2 must submit mailing documentation electronically to the Postal Service using an approved method (e.g. Mail.dat) at the time of application and for the duration of their participation in the program.

1.7.4 Saturation Mail Volume Incentive Credits

Approved program participants demonstrating an increase in saturation mail volume, within the area selected and approved under 1.7.1.a, qualify for a per-piece credit to the postage paid on the incremental volume, recorded during the established program period as follows:

a. Standard Mail saturation flats $0.04 per piece.

b. Nonprofit Standard Mail saturation flats $0.024 per piece.

1.7.5 Incentive Program Period

The program period is annual and begins on May 11, 2009. Approved participants demonstrating an increase in saturation mail volume in accordance with 1.7.0 and otherwise in compliance with the terms of this program, receive a credit to their specified CAPS account after the close of the annual program period.

* * * * *

3.0 Basic Standards for Standard Mail Flats

* * * * *

3.9 Move Update Standard

3.9.1 Basic Standards

[Revise item 3.9.1 by inserting a new third and fourth sentence into the introductory text, and incorporating a postage adjustment charge as follows:]

* * * Except for mail bearing an alternative address format, addresses used on pieces claiming Standard Mail prices must meet the Move Update standard. When a mailing is determined by the USPS to not be in compliance with the Move Update standard, each piece in the mailing will be subject to a postage adjustment charge of $0.07 per piece. Addresses subject to the Move Update standard must meet these requirements:

* * * * *

[Delete item d of 3.9.1 in its entirety.]

* * * * *

6.0 Additional Eligibility Standards for Enhanced Carrier Route Standard Mail Flats

6.1 General Enhanced Carrier Route Standards

* * * * *

[Add new item 6.1.3 as follows:]

6.1.3 Full-Service Intelligent Mail Eligibility Standards

In addition to other requirements in 6.0, flats eligible for full-service Intelligent Mail prices (in November 2009) must:

a. Be flat-size under 301.1.0.

b. Be part of a basic carrier route or high-density carrier route mailing under 6.3 or 6.4.

c. Bear an accurate Intelligent Mail barcode encoded with the correct delivery point routing code matching the delivery address and meeting the standards in 302.4.0, and 708.4.0. Flats with Intelligent Mail barcodes entered under the full-service automation option also must be part of mailings that meet the standards in 705.22.

* * * * *

[Revise heading of 7.0 as follows:]

7.0 Additional Eligibility Standards for Automation Standard Mail Flats

[Revise heading of 7.1 as follows:]

7.1 Basic Eligibility Standards for Automation Standard Mail

All pieces in a Regular Standard Mail or Nonprofit Standard Mail automation mailing must:

* * * * *

[Revise item e to require a delivery point barcode as follows:]

e. Bear an accurate delivery point POSTNET barcode or Intelligent Mail barcode encoded with the correct delivery point routing code, matching the delivery address and meeting the standards in 302.4.0, and 708.4.0, either on the piece or on an insert showing through a barcode window.

* * * * *

360 Bound Printed Matter Flats

363 Prices and Eligibility

1.0 Prices and Fees for Bound Printed Matter

1.1 Nonpresorted Bound Printed Matter

* * * * *

1.1.4 Barcoded Discount-Flats

[Revise 363.1.1.4 to require BPM claiming a barcode discount price to be automation-compatible and bear a delivery point barcode as follows:]

The barcoded discount applies only to BPM flat-size pieces that meet the requirements for automation compatibility in 301.3.0 and bear a delivery point POSTNET barcode or Intelligent Mail barcode encoded with the correct delivery point routing code, matching the delivery address and meeting the standards in 302.4.0 and 708.4.0. The pieces must be part of a nonpresorted mailing of 50 or more flat-size pieces.

1.1.5 Bound Printed Matter-Nonpresorted

[Add a new first sentence to 1.1.5 as follows:]

For prices, see Price List—Notice 123. * * *

[Delete Exhibit 1.1.5, Bound Printed Matter Nonpresorted Prices, in its entirety.]

* * * * *

1.2 Commercial Bound Printed Matter

Apply the prices, fees and discounts for commercial Bound Printed Matter as follows:

1.2.1 Prices

[Add a new last sentence as follows:]

* * * For prices, see Price List—Notice 123.

* * * * *

[Delete Exhibit 1.2.5, Bound Printed Matter Presorted, Carrier Route, and Destination Entry Prices, in its entirety.]

* * * * *

1.2.6 Destination Entry Mailing Fee

[Revise fee of 1.2.6. as follows:]

Destination entry mailing fees for Bound Printed Matter, per 12-month period: $185.00.

* * * * *

4.0 Price Eligibility for Bound Printed Matter Flats

4.1 Price Eligibility

* * * Price categories are as follows:

* * * * *

[Revise item d of 363.4.1 to require BPM claiming a barcode discount price to be automation-compatible and bear a delivery point barcode as follows:]

d. Barcoded Discount—Flats. The barcoded discount applies only to BPM flat-size pieces that meet the requirements for automation compatibility in 301.3.0 and bear an accurate delivery point POSTNET barcode or Intelligent Mail barcode encoded with the correct delivery point routing code, matching the delivery address and meeting the standards in 302.4.0 and 708.4.0. The pieces must be part of a nonpresorted mailing of 50 or more flat-size pieces or part of a presort mailing of at least 300 BPM flat-size pieces prepared under 705.8.0, and 365.7.0. The barcoded discount is not available for flat-size pieces mailed at Presorted DDU prices or carrier route prices.

* * * * *

5.0 Additional Eligibility Standards for Presorted and Carrier Route Bound Printed Matter Flats

* * * * *

[Renumber current item 5.3 as new 5.4 and add new 5.3 as follows:]

5.3 Full-Service Intelligent Mail Eligibility Standards for Carrier Route Flats

In addition to other requirements in 5.0, BPM flats eligible for full-service Intelligent Mail prices (in November 2009) must:

a. Be flat-size under 301.1.0.

b. Be part of a carrier route mailing that is not a saturation mailing.

c. Bear an accurate Intelligent Mail barcode encoded with the correct delivery point routing code matching the delivery address and meeting the standards in 302.4.0, and 708.4.0. Flats with Intelligent Mail barcodes entered under the full-service automation option also must be part of mailings that meet the standards in 705.22.

* * * * *

6.0 Additional Eligibility Standards for Barcoded Bound Printed Matter Flats

6.1 Basic Eligibility Standards for Barcoded Bound Printed Matter

[Revise 6.1 by revising the first sentence as follows:]

The barcode discount applies only to BPM flat-size pieces that bear a delivery point POSTNET barcode or an Intelligent Mail barcode encoded with the correct delivery point routing code, matching the delivery address and meeting the standards in 302.4.0 and 708.4.0. * * *

* * * * *

370 Media Mail Flats

373 Prices and Eligibility

1.0 Prices and Fees for Media Mail

* * * * *

1.4 Media Mail Presorted Prices

[Delete 1.4 price chart in its entirety and add new text as follows:]

For prices, see Price List—Notice 123.

1.5 Mailing Fee

[Revise the last sentence of 1.5 by changing the fee as follows:]

* * * Presort mailing fees for Media Mail, per 12-month period: $185.00.

* * * * *

380 Library Mail

383 Prices and Eligibility

1.0 Prices and Fees for Library Mail

* * * * *

1.4 Library Mail Presorted Prices

[Delete 1.4 price chart in its entirety and add new text as follows:]

For prices, see Price List—Notice 123.

1.5 Mailing Fee

[Revise the last sentence by changing the fee as follows:]

* * * Presort mailing fees for Library Mail, per 12-month period: $185.00.

* * * * *

400 Commercial Mail Parcels

401 Physical Standards

* * * * *

2.0 Additional Physical Standards by Class of Mail

* * * * *

2.3 Parcel Select

* * * * *

2.3.2 Nonmachinable Parcel Select

[Revise introductory text of 2.3.2 as follows:]

Mailpieces sent at Parcel Select Destination Entry prices are subject to the applicable nonmachinable surcharge in 453.1.0 unless the special handling fee is paid. There is no nonmachinable surcharge for Parcel Select BMC Presort, OBMC Presort, and Barcoded Nonpresort packages. An oversized parcel as described in 2.3.1a is not subject to the nonmachinable surcharge. Mailpieces are nonmachinable if they meet any of the following criteria: * * *

* * * * *

410 Express Mail

413 Prices and Eligibility

1.0 Prices and Fees

* * * * *

1.3 Commercial Base Prices

[Revise the first sentence of 1.3 to read as follows:]

Express Mail commercial base prices are less than Express Mail retail prices (see Price List—Notice 123).

[Delete Exhibit 1.3, Express Mail Commercial Base Prices, in its entirety.]

1.4 Commercial Plus Prices

[Revise item 1.4 to read as follows:]

Commercial plus prices are less than Express Mail retail prices (see Price List—Notice 123).

* * * * *

[Delete Exhibit 1.4 Express Mail Commercial Plus Prices, in its entirety.]

* * * * *

1.7 Pickup on Demand

1.7.1 Pickup on Demand Fee

[Revise the first sentence of 1.7.1 by changing the price as follows:]

Per occurrence: $15.30. * * *

* * * * *

420 Priority Mail

423 Prices and Eligibility

1.0 Prices and Fees

1.1 Price Application

[Delete the last sentence of 1.1 referring to Exhibit 1.2 in its entirety.]

1.2 Commercial Base Prices

[Add a new first sentence to 1.2 as follows:]

For prices, see Price List—Notice 123. * * *

[Delete Exhibit 1.2, Priority Mail Commercial Base Prices, in its entirety.]

1.3 Commercial Plus Prices

1.3.1 Existing Priority Mail Customers

[Add a new first sentence to 1.3.1 as follows:]

For prices, see Price List—Notice 123. * * *

* * * * *

[Delete Exhibit 1.3, Priority Mail Commercial Plus Prices, in its entirety.]

* * * * *

1.7 Pickup on Demand Fee

[Revise the first sentence of 1.7 by changing the price as follows:]

Priority Mail only, per occurrence: $15.30. * * *

* * * * *

430 First-Class Mail

433 Prices and Eligibility

1.0 Prices and Fees for First-Class Mail

* * * * *

1.3 Parcel Prices

[Delete price chart of 1.3 in its entirety and add new text as follows:]

For prices, see Price List—Notice 123.

* * * * *

1.5 Presort Mailing Fee

[Revise fee of 1.5 as follows:]

Presort mailing fee, per 12-month period, per office of mailing: $185.00.

* * * * *

440 Standard Mail

443 Prices and Eligibility

1.0 Prices and Fees for Standard Mail

* * * * *

1.2 Regular Standard Mail—Presorted and Enhanced Carrier Route Prices

[Delete price chart of 1.2 in its entirety and add new text as follows:]

For prices, see Price List—Notice 123.

1.3 Nonprofit Standard Mail—Presorted and Enhanced Carrier Route Prices

[Delete price chart of 1.3 in its entirety and add new text as follows:]

For prices, see Price List—Notice 123.

1.4 Regular Standard Mail—Not Flat-Machinable Prices

[Delete price chart of 1.4 in its entirety and add new text as follows:]

For prices, see Price List—Notice 123.

1.5 Nonprofit Standard Mail—Not Flat-Machinable Prices

[Delete price chart of 1.5 in its entirety and add new text as follows:]

For prices, see Price List—Notice 123.

1.6 Fees

[Revise heading of 1.6.1 as follows:]

1.6.1 Presort Mailing Fee

[Revise fee of 1.6.1 as follows:]

Mailing fee, per 12-month period: $185.00.

1.6.2 Weighted Fee

For return of pieces bearing the ancillary service markings “Address Service Requested” and “Forwarding Service Requested.”

[Revise fees in 1.6.2, Weighted Fee chart as follows:]

Weighted fee
Single piece weight not over (ounces) | Weighted fee per piece ¹
1 | $3.02
2 | 3.44
3 | 3.86
4 | 4.28
5 | 4.70
6 | 5.12
7 | 5.54
8 | 5.96
9 | 6.38
10 | 6.80
11 | 7.22
12 | 7.64
13 | 8.06
Over 13 but under 16 | 12.24
¹ Weighted fee equals single-piece First-Class Mail or Priority Mail price multiplied by 2.472.

* * * * *

3.0 Basic Standards for Standard Mail Parcels

* * * * *

3.9 Move Update Standard

3.9.1 Basic Standards

[Revise item 3.9.1 by inserting a new third and fourth sentence into the introductory text and incorporating a postage adjustment charge as follows:]

* * * Except for mail bearing an alternative address format, addresses used on pieces claiming Standard Mail prices must meet the Move Update standard. When a mailing is determined by the USPS to not be in compliance with the Move Update standard, each piece in the mailing will be subject to a postage adjustment charge of $0.07 per piece. Addresses subject to the Move Update standard must meet these requirements:

* * * * *

[Delete item d of 3.9.1 in its entirety.]

* * * * *

5.0 Additional Eligibility Standards for Presorted Standard Mail Pieces

* * * * *

5.3 Prices for Machinable Parcels

5.3.1 5-Digit Price

[Revise introductory text of 5.3.1 to limit 5-digit prices to pieces that are dropshipped as follows:]

The 5-digit price applies to qualifying machinable parcels that are dropshipped to a DBMC (or ASF when claiming DBMC prices), DSCF, or DDU and presented:

* * * * *

5.3.2 BMC Price

[Revise 5.3.2 to limit BMC prices to pieces that are dropshipped or that are presented on minimum 200 pound pallets as follows:]

The BMC price applies to qualifying machinable parcels as follows under either 5.3.2a or 5.3.2b:

a. When dropshipped to a BMC and presented:

1. In an ASF or BMC sack containing at least 10 pounds of parcels, or

2. On an ASF or BMC pallet, according to standards in 705.8.10, or

3. In a BMC/ASF container prepared under 705.20.0.

b. When presented at the origin acceptance office on a BMC pallet containing at least 200 pounds of pieces.

5.3.3 Mixed BMC Price

[Revise text of 5.3.3 as follows:]

The mixed BMC price applies to machinable parcels that are not eligible for 5-digit or BMC prices. Place machinable parcels at mixed BMC prices in origin BMC sacks or on origin BMC pallets, then in mixed BMC sacks or on mixed BMC pallets (see 445.5.3.2 and 705.8.10).

* * * * *

[Revise heading of 5.4 as follows:]

5.4 Prices for Irregular Parcels and Not Flat-Machinable (NFM) Pieces

[Revise introductory paragraph of 5.4.1 as follows:]

5.4.1 5-Digit Price

The 5-digit price applies to irregular parcels and NFMs that are dropshipped to a DBMC (or ASF when claiming DBMC prices), DSCF, or DDU and presented:

* * * * *

[Revise heading and text of 5.4.2 as follows:]

5.4.2 SCF Price

The SCF price applies to irregular parcels or NFMs that are dropshipped and presented to a DSCF:

a. In an SCF sack containing at least 10 pounds of parcels.

b. On an SCF pallet, according to 705.8.10.

c. In SCF containers prepared under 705.20.0.

[Revise heading and text of 5.4.3 as follows:]

5.4.3 BMC Price

The BMC price applies to qualifying irregular parcels or NFMs as follows under either 5.4.3a or 5.4.3b:

a. When dropshipped to a BMC and presented:

1. In an ASF or BMC sack containing at least 10 pounds of parcels, or

2. On an ASF or BMC pallet, according to standards in 705.8.10, or

3. In a BMC/ASF container prepared under 705.20.0.

b. When presented at the origin acceptance office on a BMC pallet containing at least 200 pounds of pieces.

[Revise heading and text of 5.4.4. as follows:]

5.4.4 Mixed BMC Price

The mixed BMC price applies to irregular parcels or NFMs in origin BMC or mixed BMC containers that are not eligible for 5-digit, SCF, or BMC prices. Place irregular parcels or NFMs at mixed BMC prices in origin BMC or mixed BMC sacks under 445.5.4.4 or on origin BMC or mixed BMC pallets under 705.8.10.

[Delete 5.5 in its entirety.]

* * * * *

445 Mail Preparation

1.0 General Information for Mail Preparation

1.3 Terms for Presort Levels

* * * * *

[Redesignate current items j and k as new items k and l, respectively.]

[Add new item j as shown below:]

j. Origin BMC: this separation includes all pieces addressed for delivery to ZIP Codes within the same BMC (see L601) that serves the acceptance office that verifies the mailing. There is no minimum quantity requirement for this separation.

* * * * *

5.0 Preparing Presorted Parcels

* * * * *

5.3 Preparing Machinable Parcels

[Revise heading of 5.3.1 as follows:]

5.3.1 Sacking

[Revise text of 5.3.1 by adding two new sentences at the beginning of the paragraph as follows:]

Mailers may prepare 5-digit sacks only for parcels that will be dropshipped to a DBMC (or ASF when claiming DBMC prices), DSCF, or DDU. Mailers may prepare ASF or BMC sacks only for parcels that will be dropshipped to a DBMC (or ASF when claiming DBMC prices). * * *

5.3.2 Sacking and Labeling

Preparation sequence, sack size, and labeling:

[Revise items a through d of 5.3.2, and add new item e, as follows:]

a. 5-digit/scheme (optional, but required for 5-digit price), see definition in 1.4c; allowed only for mail deposited at DBMC (or ASF when claiming DBMC prices), DSCF, or DDU. Sacks must contain a 10-pound minimum except at DDU entry which has no minimum; labeling:

1. Line 1: For 5-digit scheme sacks, use L606, Column B. For 5-digit sacks, use city, state, and 5-digit ZIP Code destination on pieces (see 4.0 for overseas military mail).

2. Line 2: For 5-digit scheme sacks, “STD MACH 5D SCH.” For 5-digit sacks, “STD MACH 5D.”

b. ASF (optional), allowed only for mail deposited at an ASF to claim DBMC price; 10-pound minimum; labeling:

1. Line 1: L602, Column B. DBMC price eligibility determined by Exhibit 446.3.1, BMC/ASF—DBMC Price Eligibility.

2. Line 2: “STD MACH ASF.”

c. BMC, allowed only for mail deposited at a DBMC to claim the BMC price; 10-pound minimum; labeling:

1. Line 1: L601, Column B. DBMC price eligibility determined by Exhibit 446.3.1, BMC/ASF—DBMC Price Eligibility.

2. Line 2: “STD MACH BMC.”

d. Origin Mixed BMC (required); no minimum; labeling:

1. Line 1: L601, Column B.

2. Line 2: “STD MACH BMC.”

e. Mixed BMC (required); no minimum; labeling:

1. Line 1: “MXD” followed by L601, Column B information for BMC serving 3-digit ZIP Code prefix of entry Post Office.

2. Line 2: “STD MACH WKG.”

* * * * *

5.4 Preparing Irregular Parcels

* * * * *

[Revise heading of 5.4.2 as follows:]

5.4.2 Sacking

[Revise text of 5.4.2 by adding two new sentences at the beginning of the paragraph as follows:]

Mailers may prepare 5-digit sacks only for parcels that will be dropshipped to a DBMC (or ASF when claiming DBMC prices), DSCF, or DDU. See 5.4.4 for restrictions on SCF, ASF, and BMC sacks. * * *

* * * * *

5.4.4 Sacking and Labeling

Preparation sequence, sack size, and labeling:

[Revise items a through e of 5.4.4, and add new item f, as follows:]

a. 5-digit/scheme (optional, but required for 5-digit price), see definition in 1.4c; allowed only for mail deposited at DBMC (or ASF when claiming DBMC prices), DSCF, or DDU. Sacks must contain a 10-pound minimum except at DDU entry which has no minimum; labeling:

1. Line 1: For 5-digit scheme sacks, use L606, Column B. For 5-digit sacks, use city, state, and 5-digit ZIP Code destination on pieces (see 4.0 for overseas military mail).

2. Line 2: For 5-digit scheme sacks, “STD IREG 5D SCH.” For 5-digit sacks, “STD IRREG 5D.”

b. SCF, allowed only for mail deposited at a DSCF to claim SCF price; 10-pound minimum; labeling:

1. For Line 1, L002, Column C.

2. For Line 2, “STD IRREG SCF.”

c. ASF (optional), allowed only for mail deposited at an ASF to claim DBMC price; 10-pound minimum; labeling:

1. Line 1: L602, Column B. DBMC price eligibility determined by Exhibit 446.3.1, BMC/ASF—DBMC Price Eligibility.

2. Line 2: “STD IRREG ASF.”

d. BMC, allowed only for mail deposited at a DBMC to claim the BMC price; 10-pound minimum; labeling:

1. Line 1: L601, Column B. DBMC price eligibility determined by Exhibit 446.3.1, BMC/ASF—DBMC Price Eligibility.

2. Line 2: “STD IRREG BMC.”

e. Origin Mixed BMC (required); no minimum; labeling:

1. Line 1: L601, Column B.

2. Line 2: “STD IRREG BMC.”

f. Mixed BMC (required); no minimum; labeling:

1. Line 1: “MXD” followed by L601, Column B information for BMC serving 3-digit ZIP Code prefix of entry Post Office.

2. Line 2: “STD IRREG WKG.”

6.0 Preparing Not Flat-Machinable Pieces

* * * * *

[Revise the title and text of 6.31 as follows:]

6.3.1 Sacking

Mailers may prepare 5-digit sacks only for NFMs that will be dropshipped to a DBMC (or ASF when claiming DBMC prices), DSCF, or DDU. See 6.3.2 and 6.3.3 for other restrictions on SCF, ASF, and BMC sacks.

6.3.2 NFM Pieces Weighing Less Than 6 Ounces

Preparation sequence, sack size, and labeling for sacks of NFM pieces that weigh less than 6 ounces:

[Revise items a through e of 6.3.2, and add new item f, as follows:]

a. 5-digit/scheme (optional, but required for 5-digit price), see definition in 1.4c; allowed only for mail deposited at DBMC (or ASF when claiming DBMC prices), DSCF, or DDU. Sacks must contain a 10-pound minimum except at DDU entry which has no minimum; labeling:

1. Line 1: For 5-digit scheme sacks, use L606, Column B. For 5-digit sacks, use city, state, and 5-digit ZIP Code destination on pieces (see 4.0 for overseas military mail).

2. Line 2: For 5-digit scheme sacks, “STD IREG 5D SCH.” For 5-digit sacks, “STD NFM 5D.”

b. SCF, allowed only for mail deposited at a DSCF to claim SCF price; 10-pound minimum; labeling:

1. For Line 1, L002, Column C.

2. For Line 2, “STD NFM SCF.”

c. ASF (optional), allowed only for mail deposited at an ASF to claim DBMC price; 10-pound minimum; labeling:

1. Line 1: L602, Column B. DBMC price eligibility determined by Exhibit 446.3.1, BMC/ASF—DBMC Price Eligibility.

2. Line 2: “STD NFM ASF.”

d. BMC, allowed only for mail deposited at a DBMC to claim the BMC price; 10-pound minimum; labeling:

1. Line 1: L601, Column B. DBMC price eligibility determined by Exhibit 446.3.1, BMC/ASF—DBMC Price Eligibility.

2. Line 2: “STD NFM BMC.”

e. Origin Mixed BMC (required); no minimum; labeling:

1. Line 1: L601, Column B.

2. Line 2: STD NFM BMC.”

f. Mixed BMC (required); no minimum; labeling:

1. Line 1: “MXD” followed by L601, Column B information for BMC serving 3-digit ZIP Code prefix of entry Post Office.

2. Line 2: “STD NFM WKG.”

6.3.3 NFM Pieces Weighing 6 Ounces or More

Preparation sequence, sack size, and labeling for sacks of NFM pieces that weigh 6 ounces or more:

[Revise items a through d of 6.3.3, and add new item e as follows:]

a. 5-digit/scheme (optional, but required for 5-digit price), see definition in 1.4c; allowed only for mail deposited at DBMC (or ASF when claiming DBMC prices), DSCF, or DDU. Sacks must contain a 10-pound minimum except at DDU entry which has no minimum; labeling:

1. Line 1: For 5-digit scheme sacks, use L606, Column B. For 5-digit sacks, use city, state, and 5-digit ZIP Code destination on pieces (see 4.0 for overseas military mail).

2. Line 2: For 5-digit scheme sacks, “STD NFM MACH 5D SCH.” For 5-digit sacks, “STD NFM MACH 5D.”

b. ASF (optional), allowed only for mail deposited at an ASF to claim DBMC price; 10-pound minimum; labeling:

1. Line 1: L602, Column B. DBMC price eligibility determined by Exhibit 446.3.1, BMC/ASF—DBMC Price Eligibility.

2. Line 2: “STD NFM MACH ASF.”

c. BMC, allowed only for mail deposited at a DBMC to claim the BMC price; 10-pound minimum; labeling:

1. Line 1: L601, Column B. DBMC price eligibility determined by Exhibit 446.3.1, BMC/ASF—DBMC Price Eligibility.

2. Line 2: “STD NFM MACH BMC.”

d. Origin Mixed BMC (required); no minimum; labeling:

1. Line 1: L601, Column B.

2. Line 2: “STD NFM MACH BMC.”

e. Mixed BMC (required); no minimum; labeling:

1. Line 1: “MXD” followed by L601, Column B information for BMC serving 3-digit ZIP Code prefix of entry Post Office.

2. Line 2: “STD NFM MACH WKG.”

* * * * *

446 Enter and Deposit

* * * * *

3.0 Destination Bulk Mail Center (DBMC) Entry

* * * * *

[Delete items 3.3 and 3.4 in their entirety, and redesignate current 3.5 through 3.7 as new 3.3 through 3.5.]

* * * * *

450 Parcel Select

453 Prices and Eligibility

1.0 Prices and Fees

1.1 Price Application

* * * There are three price categories for Parcel Select:

* * * * *

[Revise text of 1.1b and c as follows:]

b. BMC Presort and OBMC Presort.

c. Barcoded Nonpresort.

1.2 Parcel Select Destination Entry Prices

[Delete price chart of 1.2 in its entirety and add new text as follows:]

For prices, see Price List—Notice 123.

[Revise heading of 1.3 as follows:]

1.3 Parcel Select BMC Presort Prices

[Delete price chart of 1.3 in its entirety and add new text as follows:]

For prices, see Price List—Notice 123.

[Revise heading of 1.4 as follows:]

1.4 Parcel Select OBMC Presort Prices

[Delete price chart of 1.4 in its entirety and add new text as follows:]

For prices, see Price List—Notice 123.

[Revise heading of 1.5 as follows:]

1.5 Parcel Select Barcoded Nonpresort Prices

[Delete price chart of 1.5 in its entirety and add new text as follows:]

For prices, see Price List—Notice 123.

* * * * *

*

3.0 Price Eligibility for Parcel Select

3.1 Destination Entry Price Eligibility

* * * * *

3.1.3 DBMC prices

For DBMC prices, pieces must meet the applicable standards in 3.0 and the following:

* * * * *

[Revise the second sentence of 3.1.3b to eliminate use of the term “Intra-BMC/ASF” as follows:]

b. * * * Nonbarcoded machinable parcels are eligible only for Parcel Post prices.

* * * * *

[Revise heading of 3.2 to delete “Inter-BMC” as follows:]

3.2 Parcel Select BMC and OBMC Presort Price Eligibility

[Revise text by incorporating text from current 3.2.1 and 3.2.2, and rewording existing text as follows:]

Parcel Select BMC Presort and Parcel Select OBMC Presort per piece prices apply to Parcel Select sorted to BMC destinations under L601 for machinable pieces, and sorted to BMC and ASF destinations for nonmachinable pieces under L605, and to pieces prepared as part of a combined mailing under 705.20.0. To qualify, machinable pieces must be placed in pallet boxes on pallets; and nonmachinable pieces must be placed directly on pallets under 705.8.0, or be prepared as part of a combined mailing and placed in a 5-digit, 3-digit, ADC, or BMC container under 705.20.0. The mail must be entered at a BMC listed in L601 for OBMC Presort and not at a BMC for BMC presort, and must be part of a mailing containing 50 or more Parcel Select pieces.

[Delete current 3.2.1 and 3.2.2 in their entirety.]

[Revise heading of 3.3 to delete “Intra-BMC/ASF” and “Inter-BMC/ASF” from heading as follows:]

3.3 Parcel Select Barcoded Nonpresort Price Eligibility

[Revise text by incorporating text from current 3.3.1 and 3.3.2, and rewording existing text as follows:]

Parcel Select Barcoded Nonpresort per piece prices apply to Parcel Select machinable parcels that are barcoded. See Exhibit 3.3.1, BMC/ASF Service Areas. Machinable parcels (401.1.5) must bear a GS1-128 barcode under 708.5.0 for the ZIP Code of the delivery address, and be part of a mailing of 50 or more pieces or when prepared as part of a combined mailing of 300 or more pieces under 705.20.0 in other than 5-digit containers.

[Delete current 3.3.1 and 3.3.2 in their entirety, and renumber current exhibit 3.3.1 as new exhibit 3.3.]

* * * * *

454 Postage Payment and Documentation

1.0 Basic Standards for Postage Payment

1.1 Postage Payment Options

Mailing fees must be paid for the current 12-month period at the Postal Service facility where postage is paid for the mailing.

[Revise 1.1a by eliminating reference to “Inter-BMC” in the fifth sentence as follows:]

a. * * * Permit imprint may be used for identical-weight pieces provided the mail can be separated at acceptance into groups that each contain pieces subject to the same zone and same combination of prices (e.g., all are zone 4, with a BMC presort discount and a barcode discount). * * *

* * * * *

455 Mail Preparation

1.0 General Information for Mail Preparation

1.8 Parcel Select Markings

* * * The following product markings are required:

* * * * *

[Revise 1.8 c and d to eliminate references to inter-BMC and intra-BMC as follows:]

c. OBMC Presort—* * *.

d. Barcoded Nonpresort—* * *.

* * * * *

[Revise heading of 5.0 to eliminate “Inter-BMC” as follows:]

5.0 Preparing BMC Presort and OBMC Presort Parcel Select

5.1 Definitions

The following definitions apply:

[Revise 5.1a and b to eliminate inter-BMC as follows:]

a. BMC Presort—are pieces * * *.

b. OBMC Presort—are pieces * * *.

* * * * *

[Revise heading of 6.0 to eliminate “Intra-BMC” and “Inter-BMC” as follows:]

6.0 Preparing Barcoded Machinable Parcels

6.1 Definition

[Revise the text in 6.1 as follows:]

Parcel Select machinable parcels (401.1.5) that bear a barcode under 708.5.0 for the ZIP Code of the delivery address.

* * * * *

456 Enter and Deposit

1.0 Verification

* * * * *

1.3 Redirecting Mailings

A shipper who presents large shipments of zoned Parcel Select mail may be authorized or directed to deposit such shipments at another postal facility when processing or logistics make such an alternative desirable for the USPS, subject to these conditions:

* * * * *

[Delete item 1.3c in its entirety].

* * * * *

460 Bound Printed Matter

463 Prices and Eligibility

1.0 Prices and Fees for Bound Printed Matter

1.1 Nonpresorted Bound Printed Matter

* * * * *

1.1.4 Bound Printed Matter—Nonpresorted

[Add new first sentence to 1.1.4 as follows:]

For prices, see Price List—Notice 123. * * *

[Delete Exhibit 1.1.4, Bound Printed Matter—Nonpresorted in its entirety].

* * * * *

1.2 Commercial Bound Printed Matter

* * * * *

1.2.3 Bound Printed Matter Presorted and Carrier Route Prices

[Add new last sentence to 1.2.3 as follows:]

* * * For prices, see Price List—Notice 123.

1.2.4 Bound Printed Matter Destination Entry Prices

[Add new last sentence to 1.2.4 as follows:]

* * * For prices, see Price List—Notice 123.

[Delete Exhibit 1.2.4, Bound Printed Matter—Presorted, Carrier Route, and Destination Entry Prices in its entirety].

1.2.5 Destination Entry Mailing Fee

[Revise the last sentence of 1.2.5 by changing the fee as follows:]

Destination entry mailing fees for Bound Printed Matter, per 12-month period: $185.00.

* * * * *

470 Media Mail

473 Prices and Eligibility

1.0 Media Mail Prices and Fees

* * * * *

1.3 Media Mail Presorted Prices

[Revise text of 1.3 as follows:]

For prices, see Price List—Notice 123.

[Delete Exhibit 1.3, Media Mail Presorted Prices, in its entirety.]

1.4 Mailing Fee

[Revise the last sentence by changing the fee as follows:]

* * * Presort mailing fees for Media Mail, per 12-month period: $185.00.

* * * * *

480 Library Mail

483 Prices and Eligibility

1.0 Library Mail Prices and Fees

* * * * *

1.3 Library Mail Presorted Prices

[Revise text of 1.3 as follows:]

For prices, see Price List—Notice 123.

[Delete Exhibit 1.3, Library Mail Presorted Prices, in its entirety.]

1.4 Mailing Fee

[Revise the last sentence of 1.4 by changing the fee as follows:]

* * * Presort mailing fees for Library Mail, per 12-month period: $185.00.

* * * * *

500 Additional Mailing Services

503 Extra Services

1.0 Extra Services for Express Mail

1.1 Available Services

* * * * *

1.1.8 Fees for Express Mail Insurance

Fee, in addition to postage and other fees:

[Revise table in 1.1.8 by changing the prices as follows:]

Express mail insurance (Amount for merchandise insurance coverage desired) | Fee ¹
$0.01 to $100.00 | $0.00.
100.01 to 200.00 | 0.75.
200.01 to 500.00 | 2.15.
500.01 to 5,000.00 | $2.15 plus $1.40 for each $500 or fraction thereof over $500.
¹ Express Mail merchandise maximum coverage: $5,000.
Document reconstruction maximum liability: $100.

* * * * *

2.0 Registered Mail

2.1 Registered Mail Fees

Fees and charges are in addition to postage:

[Revise table by changing the prices as follows:]

Registered mail: Declared value | In addition to postage: Fee | Declared value | In addition to postage: Fee
$0.00 0.01 to 100 100.01 to 500.00 500.01 to 1,000.00 | $10.60 11.50 13.10 14.45 | $25,000.01 to $15,000,000 | $46.85 + handling charge of $1.35 per each $1,000 or fraction thereof over first $25,000.
1,000.01 to 2,000.00 | 15.80
2,000.01 to 3,000.00 3,000.01 to 4,000.00 4,000.01 to 5,000.00 5,000.01 to 6,000.00 | 17.15 18.50 19.85 21.20 | Over $15,000,000 | $23,313.10 + amount determined by USPS based on weight, space, and value.
6,000.01 to 7,000.00 | 22.55 | Additional Services
7,000.01 to 8,000.00 8,000.01 to 9,000.00 9,000.01 to 10,000.00 10,000.01 to 11,000.00 | 23.90 25.25 26.60 27.95 | COD Collection Charge (maximum amount collectible is $1,000) | $4.85.
11,000.01 to 12,000.00 | 29.30 | Restricted Delivery | 4.50.
12,000.01 to 13,000.00 | 30.65
13,000.01 to 14,000.00 14,000.01 to 15,000.00 15,000.01 to 16,000.00 16,000.01 to 17,000.00 17,000.01 to 18,000.00 18,000.01 to 19,000.00 | 32.00 33.35 34.70 36.05 37.40 38.75 | Return Receipts, requested at time of mailing showing to whom, signature, date of delivery, and addressee's address (if different) | 2.30.
19,000.01 to 20,000.00 20,000.01 to 21,000.00 21,000.01 to 22,000.00 | 40.10 41.45 42.80 | Return Receipts, requested at time of mailing (receive electronically) | 1.10.
22,000.01 to 23,000.00 23,000.01 to 24,000.00 24,000.01 to 25,000.00 | 44.15 45.50 46.85 | Return Receipts, requested after mailing showing only to whom and date delivered | 4.60.
¹ Fees for articles valued over $25,000 are for handling only. Maximum amount of insurance coverage available is $25,000.

* * * * *

3.0 Certified Mail

3.1 Certified Mail Fees

3.1.1 Certified Fees

[Revise 3.1.1 by changing the price as follows:]

Fee, in addition to postage and other fees, per piece: $2.80.

* * * * *

4.0 Insured Mail

4.1 Insured Mail Fees

4.1.1 Insurance Fees

Fee, in addition to postage and other fees, for merchandise insurance liability, per piece:

[Revise table in 4.1.1 by changing the prices as follows:]

Amount for merchandise insurance coverage desired | Fee ¹
$0.01 to $50 | $1.75.
50.01 to 100 | 2.25.
100.01 to 200 | 2.75.
200.01 to 300 | 4.70.
300.01 to 400 | 5.70.
400.01 to 500 | 6.70.
500.01 to 600 | 7.70.
600.01 to 5,000 (maximum liability is $5000). | $7.70 plus $1.00 per $100 or fraction thereof over $600 in declared value.
¹ Bulk insurance discount $0.80 per piece. (See 503.4.4 for eligibility.)

* * * * *

5.0 Certificate of Mailing

5.1 Certificate of Mailing Fees

[Revise table in 5.1 by changing the prices as follows:]

| Fee
Individual Pieces:
Individual article (Form 3817) | $1.15
Duplicate copies of Form 3817 or mailing bill, per page | 1.15
Firm mailing books (Form 3877), per article listed (minimum 3) | 0.42
Bulk Quantities:
For first 1,000 pieces (or fraction thereof) | 6.50
Each additional 1,000 pieces (or fraction thereof) | 0.75
Duplicate copy of Form 3606 | 1.15

* * * * *

6.0 Return Receipt

6.1 Return Receipt Fees

6.1.1 Fees

Fee, in addition to postage and other fees, per piece:

[Revise table in 6.1.1 by changing the prices as follows:]

Return receipt (In conjunction with another service) | Fee
Requested at time of mailing (receive by mail) | $2.30
Requested at time of mailing (receive electronically) | 1.10
Requested after mailing (Form 3811-A) (receive by fax, mail, or e-mail) | 4.60

* * * * *

7.0 Restricted Delivery

7.1 Restricted Delivery Fee

7.1.1 Fee

[Revise 7.1.1 by changing the price as follows:]

Fee, in addition to postage and other fees, per piece: $4.50.

* * * * *

8.0 Return Receipt for Merchandise

8.1 Return Receipt for Merchandise Fees

8.1.1 Fees

[Revise 8.1.1 by changing the price as follows:]

Fee, in addition to postage and other fees, per piece: $3.80.

* * * * *

9.0 Delivery Confirmation

9.1 Delivery Confirmation Fee

9.1.1 Fee

Fee, in addition to postage and other fees, per piece:

[Revise table in 9.1.1 by changing the prices as follows:]

Delivery confirmation |  | Fee
First-Class Mail (parcels only) | Retail | $0.80
| Electronic | 0.19
Priority Mail | Retail | 0.70
| Electronic | 0.00
Package Services (parcels only) | Retail | 0.80
| Electronic | 0.19
Standard Mail (NFMs and parcels) | Electronic | 0.19
Parcel Select Destination Entry | Electronic | 0.00
Parcel Select (all other) | Electronic | 0.19

* * * * *

10.0 Signature Confirmation

10.1 Signature Confirmation Fees

10.1.1 Fee

* * * Fee, in addition to postage and other fees, per piece:

[Revise table in 10.1.1 by changing the prices as follows:]

Signature confirmation |  | Fee
First-Class Mail (parcels only) | Retail | $2.35
| Electronic | 1.95
Priority Mail | Retail | 2.35
| Electronic | 1.95
Package Services (parcels only) | Retail | 2.35
| Electronic | 1.95
Parcel Select | Electronic | 1.95

* * * * *

11.0 Collect on Delivery (COD)

11.1 Collect on Delivery Fees

11.1.1 Fee

Fee, in addition to postage and other fees, per piece:

[Revise table in 11.1.1 by changing the prices as follows:]

| Fee
Amount to be collected or insurance coverage desired, whichever is higher: ¹
$0.01 to $50 | $5.50
50.01 to 100 | 6.80
100.01 to 200 | 8.10
200.01 to 300 | 9.40
300.01 to 400 | 10.70
400.01 to 500 | 12.00
500.01 to 600 | 13.30
600.01 to 700 | 14.60
700.01 to 800 | 15.90
800.01 to 900 | 17.20
900.01 to 1,000 | 18.50
Additional COD services:
Restricted delivery ² | 4.50
Notice of nondelivery | 3.85
Alteration of COD charges | 3.85
Designation of new addressee | 3.85
Registered COD ³ | 4.85

* * * * *

12.0 Special Handling

12.1 Fees for Special Handling

12.1.1 Fees

Fee, in addition to postage and other fees, per piece:

[Revise table in 12.1.1 by changing the prices as follows:]

Weight | Fee
Not more than 10 pounds | $7.40
More than 10 pounds | 10.40

* * * * *

13.0 Confirm Service

13.1 Confirm Fees

13.1.1 Fee

Fee, in addition to postage and other fees:

[Revise table of 13.1.1. to read as follows:]

Subscription level | Subscription fee and term | Additional ID code registration fee and term | Additional scans fee and number
Bronze ¹ ² | $1,000 12 months | $900 each 3 months $2,500 annual | $250 block of 10,000 scans.
Silver ¹ ² | $2,000 3 months | $900 each 3 months | $500 block of 2 million scans.
Gold Mail Owner ² | $7,500 12 months | $900 each 3 months $2,500 annual | $800 block of 6 million scans.
Gold Mailing Agent ³ | $10,000 12 months | $900 each 3 months $2,500 annual | $800 block of 6 million scans.
Platinum Mail Owner ² | $25,000 12 months | $900 each 3 months $2,500 annual | NA.
Platinum Mailing Agent ³ | $250,000 12 months | $900 each 3 months $2,500 annual | NA.
¹ Available to mail owners only.
² A mail owner is the business entity (or individual) who makes business decisions regarding the mailpiece content, directly benefits from the mailing, and ultimately pays for postage on the mailpiece.
³ A mailing agent is a business entity acting on behalf of one or more mail owners by providing mailing services for which the mail owners will compensate the mailing agent. Mailing agents include, but are not limited to: Printer; letter shop; address list provider/manager; mail preparer; postage payment provider; mailing logistics provider; mailing tracking provider; and mailing information manager.

* * * * *

13.2 Basic Information

13.2.1 Description

[Revise the second sentence of 13.2.1 to read as follows:]

* * * Scanned data can include the postal facility where such pieces are processed, the postal operation used to process the pieces, the date and time when the pieces are processed, and the numeric equivalent of a barcode(s) that help to identify the specific pieces. * * *

* * * * *

13.2.3 Authorization

[Revise 13.2.3 to read as follows:]

Participation in Confirm service requires USPS authorization after mailers pay applicable fees and meet technical requirements. As part of the application process, a mailer must submit mailpieces with the appropriate PLANET Code barcodes, POSTNET barcodes, or Intelligent Mail barcodes for evaluation and approval via the prescribed application process. Mailers may use Confirm service only after receiving authorization. Information generated from the service is provided only to mailers meeting the standards for participation.

* * * * *

[Renumber current item 13.2.7 as new 13.2.8 and add new 13.2.7 as follows:]

13.2.7 Eligibility

Confirm is available to both mail owners and mailing agents. The Bronze and Silver subscriptions are restricted to mail owners only. Mailing agents are eligible for Gold and Platinum subscriptions at the mailing agent fee level only. Mail owner and mailing agents are defined as follows:

a. Mail Owner. A mail owner is the business entity (or individual) who makes business decisions regarding the mailpiece content, directly benefits from the mailing, and ultimately pays for postage on the mailpiece.

b. Mailing Agent. A mailing agent is a business entity acting on behalf of one or more mail owners by providing mailing services for which the mail owners will compensate the mailing agent. Mailing Agents include, but are not limited to: printer; letter shop; address list provider/manager; mail preparer; postage payment provider; mailing logistics provider; mailing tracking provider; and mailing information manager. A business entity whose services define it as a mailing agent may subscribe as a mail owner, but only for its own mail, or the mail of its corporate partners or subsidiaries. A business entity who subscribes as a mail owner under these conditions may separately subscribe as a mailing agent.

13.2.8 Subscription Levels

[Revise renumbered 13.2.8 to read as follows:]

A customer may subscribe to one or more of the following levels at the same time, at different times, or at overlapping times:

a. Bronze Subscription. The Bronze subscription level is restricted to mail owners (see 13.2.7), has a term of 12 consecutive months, includes registration of one identification code assigned by the USPS, and provides up to 200,000 scans. A mail owner subscribing to this level may also:

1. Register additional identification codes for a term of 3 consecutive months or until the expiration of the underlying subscription, whichever occurs first.

2. License additional scans in blocks of 10,000 scans at any time before the underlying subscription expires. Unused scans expire at the end of the subscription term.

3. Change the subscription level to a Gold or Platinum subscription level at any time before the expiration of the Bronze subscription by paying the difference of the respective subscription fees. This change in service level does not extend the term of the underlying initial subscription.

b. Silver Subscription. The Silver subscription level is restricted to mail owners (see 13.2.7), has a term of 3 consecutive months, includes registration of one identification code assigned by the USPS, and provides up to 15 million scans. A mail owner subscribing to this level may also:

1. Register additional identification codes for a term of 3 consecutive months or until the expiration of the underlying subscription, whichever occurs first.

2. License additional scans in blocks of 2 million scans at any time before the underlying subscription expires. Unused scans expire at the end of the subscription term.

c. Gold Subscription. The Gold subscription level has a term of 12 consecutive months, includes registration of one identification code assigned by the USPS, and provides up to 50 million scans. A customer subscribing to this level may also:

1. Register additional identification codes for a term of 3 consecutive months or until the expiration of the underlying subscription, whichever occurs first.

2. License additional scans in blocks of 6 million scans at any time before the underlying subscription expires. Unused scans expire at the end of the subscription term.

3. Raise the subscription level to a Platinum subscription level at any time before the expiration of the Gold subscription by paying the difference of the respective subscription fees. This change in service level does not extend the term of the underlying initial subscription.

d. Platinum Subscription. The Platinum subscription level has a term of 12 consecutive months, includes registration of three identification numbers assigned by the USPS, and provides an unlimited number of scans. A customer subscribing to this level may also license additional identification codes for a term of 3 consecutive months or until the expiration of the underlying subscription, whichever occurs first.

* * * * *

13.3 Barcodes

* * * * *

13.3.5 PLANET Code Barcode Specifications

[Revise the last sentence of 13.3.5 to read as follows:]

* * * Publication 197 is available online at www.usps.com/ftp/pubs/pub197.pdf.

* * * * *

[Delete current 13.4, Preshipment Notification in its entirety and renumber current 13.5 as new 13.4.]

* * * * *

14.0 Money Orders

14.1 Fees for Money Orders

Fee, each:

[Revise table in 14.1 by changing prices as follows:]

Service | Fee
Domestic money order
$0.01 to $500 | $1.10
$500.01 to $1,000 | 1.50
Postal military money order (issued by military facilities) | 0.30
Inquiry fee (includes the issuance of a copy of a paid money order) | 5.40
Maximum amount per money order—$1,000

* * * * *

507 Mailer Services

* * * * *

3.0 Premium Forwarding Service

3.1 Prices and Fees

3.1.1 Application Fee

[Revise 3.1.1 by changing the fee as follows:]

Customers must pay a $15.00 nonrefundable application fee.

3.1.2 Weekly Reshipment Charge

[Revise the first sentence of 3.1.2 by changing the price as follows:]

The reshipment charge for each Priority Mail shipment to one temporary address is $13.95 for each week of service requested. * * *

* * * * *

4.0 Address Correction Services

4.1 Address Correction Service

4.1.1 Address Correction Service Fee

[Revise table in 4.1.1 by changing the prices and adding references to full-service pieces as follow:]

Per manual notice issued—$0.50.
Per electronic notice (or manual notice for electronic option customers) issued:
• First-Class Mail—$0.10.
• Other than First-Class Mail—$0.26 (includes notices provided after 60 days for Periodicals full-service pieces and notices provided after 30 days for Standard Mail and BPM full-service flats).
Per automated notice issued:
• First-Class Mail letters (first two notices)—$0.02.
• First-Class Mail letters (per additional notice)—$0.08.
• Standard Mail letters (first two notices)—$0.05 (includes first two notices provided after 30 days for Standard Mail full-service letters).
• Standard Mail letters (per additional notice)—$0.20 (includes third and subsequent additional notices after 30 days for Standard Mail full-service letters).
• Pieces eligible for full-service Intelligent Mail option as described in 705.22—$0.00.

* * * * *

4.2 Address Change Service (ACS)

* * * * *

4.2.10 Shipper Paid Forwarding Fee

[Revise 4.2.10 by changing the price as follows:]

Annual account maintenance fee for (optional) advance deposit account: $585.00.

* * * * *

6.0 Pickup on Demand Service

6.1 Pickup on Demand Service Fee

[Revise 6.1 by changing the price as follows:]

Available for Express Mail, Priority Mail, and Parcel Post, per pickup: $15.30.

* * * * *

7.0 Mailing List Services

7.1 Mailing List Service Fees

[Revise table in 7.1 by changing the prices as follows:]

For correction of name and address on occupant lists, per name on list—$0.35.
Minimum per list (30 items)—$10.50.
For sorting mailing lists on cards by 5-digit ZIP Code, per 1,000 addresses or fraction—$120.00.
For address changes provided to election boards and voter registration
commissions, per Form 3575—$0.35.

* * * * *

8.0 Address Sequencing Services

8.1 Address Sequencing Service Fees

8.1.1 Basic Service

[Revise 8.1.1 by changing the price as follows:]

Each card or address removed because of an incorrect or undeliverable address: $0.35.

8.1.2 Blanks for Missing Addresses

[Revise 8.1.2 by changing the price as follows:]

Each card or address removed because of an incorrect or undeliverable address: $0.35. Insertion of each blank card for missing or new address: no charge.

8.1.3 Missing or New Addresses Added

[Revise 8.1.3 by changing the price as follows:]

Insertion of each addressed card for missing or new address: $0.35.

* * * * *

9.0 Business Reply Mail (BRM)

9.1 Business Reply Mail (BRM) Prices and Fees

9.1.1 Basic BRM

[Revise 9.1.1 by changing the prices as follows:]

Annual permit fee: $185.00.

Per piece fee: $0.74 * * *

9.1.2 High-Volume BRM

[Revise 9.1.2 by changing the prices as follows:]

Annual permit fee: $185.00.

Annual account maintenance fee (for advanced deposit account): $585.00.

Per piece fee: $0.083 * * *

9.1.3 Basic Qualified BRM

[Revise 9.1.3 by changing the prices as follows:]

Annual permit fee: $185.00.

Annual account maintenance fee (for advanced deposit account): $585.00.

Per piece fee: $0.052 * * *

9.1.4 High-Volume Qualified BRM

[Revise 9.1.4 by changing the prices as follows:]

Annual permit fee: $185.00.

Annual account maintenance fee (for advanced deposit account): $585.00.

Quarterly fee: $1,925.00.

Per piece fee: $0.007 * * *

9.1.5 Bulk Weight Averaged Nonletter-Size BRM

[Revise 9.1.5 by changing the prices as follows:]

Annual permit fee: $185.00.

Annual account maintenance fee (for advanced deposit account): $585.00.

Monthly maintenance fee: $965.00.

Per piece fee: $0.013 * * *

9.2 Qualified Business Reply Mail (QBRM) Prices

9.2.1 Cards

[Revise 9.2.1 by changing the prices as follows:]

Cards meeting the standards in 9.3 through 9.12, in addition to the fees in 9.1: $0.257 each.

9.2.2 Letters

Letter-size single pieces meeting the standards in 9.3 through 9.12, in addition to the fees in 9.1:

[Revise table by changing the prices as follows:]

Weight increment | Price
First ounce or fraction of an ounce | $0.417
Additional ounce or fraction, (up to and including 2 ounces) | 0.170

* * * * *

11.0 Merchandise Return Service

11.1 Prices and Fees

11.1.1 Permit Fee

[Revise the first sentence 11.1.1 by changing the price as follows:]

Annual permit fee: $185.00. * * *

11.1.2 Advance Deposit Account and Account Maintenance Fee

[Revise the first sentence 11.1.2 by changing the price as follows:]

Annual account maintenance fee (for advance deposit account): $585.00. * * *

* * * * *

12.0 Bulk Parcel Return Service

12.1 Bulk Parcel Return Service (BPRS) Fees

12.1.1 Permit Fee

[Revise 12.1.1 by changing the price as follows:]

Annual permit fee: $185.00.

12.1.2 Account Maintenance Fee

[Revise 12.1.2 by changing the price as follows:]

Annual account maintenance fee: $585.00.

12.1.3 Per Piece Charge

[Revise 12.1.3 by changing the price as follows:]

For each piece returned, regardless of weight: $2.50.

* * * * *

13.0 Parcel Return Service

* * * * *

13.2 Postage and Fees

* * * * *

13.2.2 Permit Fee

[Revise 13.2.2 by changing the price as follows:]

The participant must pay a $185.00 permit fee annually at the Post Office where the PRS permit is held.

13.2.3 Advance Deposit Account and Annual Account Maintenance Fee

[Revise 13.2.3 by changing the price as follows:]

The participant must pay postage through an advance deposit account and must pay an annual account maintenance fee of $585.00.

* * * * *

508 Recipient Services

* * * * *

4.0 Post Office Box Service

4.1 Fees for Post Office Box Service

[Revise the table in 4.1 by changing the prices as follows:]

Fee group | Box size and fee per semiannual (6-month) period: 1 | Box size and fee per semiannual (6-month) period: 2 | Box size and fee per semiannual (6-month) period: 3 | Box size and fee per semiannual (6-month) period: 4 | Box size and fee per semiannual (6-month) period: 5
1 | $46.00 | $70.00 | $125.00 | $255.00 | $410.00
2 | 36.00 | 58.00 | 100.00 | 195.00 | 350.00
3 | 30.00 | 48.00 | 88.00 | 160.00 | 270.00
4 | 22.00 | 35.00 | 55.00 | 110.00 | 205.00
5 | 20.00 | 28.00 | 50.00 | 90.00 | 155.00
6 | 14.00 | 22.00 | 38.00 | 65.00 | 115.00
7 | 12.00 | 18.00 | 30.00 | 50.00 | 90.00
E ¹ | 0.00 | 0.00 | 0.00 | 0.00 | 0.00
Additional Fees And Services
Deposit per key issued | $1.00
Key duplication or replacement (after first 2 keys), each | 6.00
Post office box lock replacement, each | 15.00
¹ Eligibility and location determined by USPS.

5.0 Caller Service

5.1 Caller Service Fees

Fees are charged as follows:

[Revise the table in 5.1 by changing the prices as follows:]

Fee group | For each separation provided per semiannual (6-month) period: Fee
1 | $660.00
2 | 580.00
3 | 520.00
4 | 510.00
5 | 500.00
6 | 450.00
7 | 410.00
Additional Fees and Services
For each reserved call number, per calendar year | 40.00

* * * * *

600 Basic Standards for All Mailing Services

* * * * *

604 Postage Payment Methods

* * * * *

2.0 Stamped Stationery

2.1 Plain Stamped Envelope

2.1.1 Fee

Fee, in addition to the postage value preprinted on the envelope:

[Revise the table in 2.1.1 by changing the prices as follows:]

Type | Fee: Each | Fee: 500
Size 6¾ | $0.10 | $15.50
Size 10 | 0.10 | 17.75

* * * * *

2.2 Personalized Stamped Envelopes

2.2.1 Fee

Fee, in addition to the postage value preprinted on the envelope:

[Revise the table in 2.2.1 by changing the prices as follows:]

Type | Fee: 50 | Fee: 500
Size 6¾ | $4.80 | $24.00
Size 10 | 4.80 | 27.00

* * * * *

[Renumber current 2.2.7, Rejected Envelopes, as new 2.2.8 and insert new 2.2.7 as follows:]

2.2.7 Premium Options

Personalized stamped envelopes may be ordered with the following premium options:

a. Pressure-sensitive sealing.

b. 10-point or 12-point font size.

c. Script or Times New Roman font style.

d. Blue, red, or green font color.

Premium option | Fee ¹: 50 | Fee ¹: 500
Pressure Sensitive Sealing | 5.00 | 15.00
Font Size, Font Style, and/or Ink Color (For one, two, or all three) | 1.00 | 2.00
¹ In addition to the postage value preprinted on the envelope and the personalized stamped envelope fee.

* * * * *

5.0 Permit Imprint (Indicia)

5.1 General Standards

* * * * *

5.1.5 Application Fee

[Revise first sentence of 5.1.5 to change fee as follows:]

Application fee: $185.00.

* * * * *

700 Special Standards

* * * * *

703 Nonprofit Standard Mail and Other Unique Eligibility

* * * * *

2.0 Overseas Military Mail

* * * * *

2.5 Parcel Airlift (PAL)

* * * * *

2.5.3 Parcel Airlift (PAL) Fees

Fee, in addition to postage and other fees, per piece:

Maximum weight | Fee
2 pounds | $0.55
3 pounds | 1.10
4 pounds | 1.55
30 pounds | 2.15

* * * * *

705 Advanced Preparation and Special Postage Payment Systems

* * * * *

6.0 Combining Mailings of Standard Mail, Package Services, and Parcel Select Parcels

* * * * *

6.3 Combining Parcels—Parcel Select OBMC Presort, BMC Presort, DSCF, and DDU Prices

6.3.1 Qualification

Combination requirements for specific discounts and prices are as follows:

[Revise item a and insert new item b of 6.3.1 as follows. Redesignate current items b and c as new items c and d.]

a. When claiming Parcel Select OBMC Presort discounts, machinable Standard Mail parcels and NFMs weighing 6 ounces or more may be combined with machinable Package Services parcels under 6.3 only if the mailpieces are palletized and each pallet or pallet box contains a 200-pound minimum.

b. When claiming Parcel Select BMC Presort discounts, machinable Standard Mail parcels and NFMs weighing 6 ounces or more may be combined with machinable Package Services parcels under 6.3 only if the mailpieces are palletized and each pallet or pallet box contains a 200 pound minimum.

* * * * *

8.0 Preparing Pallets

* * * * *

8.5 General Preparation

* * * * *

8.5.3 Minimum Load

The following minimum load standards apply to mail prepared on pallets:

* * * * *

[Insert new item 3, and redesignate current items 3 and 4 as new items 4 and 5.]

3. The minimum load for pallets is 200 pounds of Standard Mail parcels (machinable, irregulars, or NFMs) entered at origin (BMC only) or at a DBMC to claim the 5-digit or BMC price.

* * * * *

[Revise heading of 8.6 as follows:]

8.6 Pallet Placards

* * * * *

8.6.2 Specifications

[Revise 8.6.2 to permit optional pallet placards (with Intelligent Mail container barcodes) for Periodicals to be white with a pink identifying bar by adding a new third sentence as follows:]

* * * Placards, affixed to pallets containing Periodicals, bearing an Intelligent Mail container barcode and prepared in the optional smaller format under 708.6.6.6, may be white instead of pink, but must include a vertical pink one-half inch wide identification bar along the left-hand side of the placard.

* * * * *

8.10 Pallet Presort and Labeling

* * * * *

8.10.3 Standard Mail—Bundles, Sacks, or Trays

* * * Mailers also may palletize bundles of Standard Mail flats under 10.0, 12.0, or 13.0.

* * * * *

[Revise items g and h of 8.10.3 by deleting “or L603” in the third sentence in each item and deleting the entire sixth sentence that contains reference to obsolete L604.]

[Revise heading and introductory text of 8.10.6 as follows:]

8.10.6 Package Services, Parcel Select

Pallets must be prepared under 8.0 in the sequence listed below and completed at each required level before the next optional or required level is prepared. Unless indicated as optional, all sort levels are required under the conditions shown. At the mailer's option, Parcel Select and Parcel Post mailings may be prepared on pallets under this section. Destination entry price eligibility applies only to Parcel Select (see 456), and Bound Printed Matter (see 466). Combined mailings of Standard Mail, Parcel Select, and Package Services machinable parcels also must meet the standards in 6.0 or 20.0. Pallets must be labeled according to the Line 1 and Line 2 information listed below and under 8.6.

* * * * *

[Insert new 8.10.7 and renumber current 8.10.7 and 8.10.8 as new 8.10.8 and 8.10.9 as follows:]

8.10.7 Standard Mail Machinable Parcels and Not Flat-Machinable Pieces Weighing 6 Ounces or More

Mailers who palletize machinable parcels or Not Flat-Machinable pieces must make pallets or pallet boxes when there are 250 pounds or more for the destination levels below for DMBC, DSCF, or DDU prices. When prepared at origin, a 200-pound minimum is required for the BMC price. Pallets must be prepared under 8.0 in the sequence listed below and completed at each required level before the next optional or required level is prepared. Unless indicated as optional, all sort levels are required under the conditions shown. At the mailer's option, Parcel Select and Parcel Post mailings may be prepared on pallets under this section. Destination entry price eligibility applies only to Standard Mail (see 446 for parcels and NFMs that weigh 6 ounces or more). Combined mailings of Standard Mail, Parcel Select, and Package Services machinable parcels also must meet the standards in 6.0 or 20.0. Pallets must be labeled according to the Line 1 and Line 2 information listed below and under 8.6.

a. 5-digit scheme, required. Pallet must contain parcels or NFMs for the same 5-digit scheme under L606. For 5-digit destinations not part of L606, or for which scheme sorts are not performed, 5-digit pallets are prepared under 8.10.6b. Labeling:

1. Line 1: Use L606.

2. Line 2: “STD MACH 5D,” or “STD NFM MACH 5D,” as applicable; followed by “SCHEME” (or “SCH”).

b. 5-digit, required. Pallet must contain parcels or NFMs only for the same 5-digit ZIP Code. Labeling:

1. Line 1: city, state, and 5-digit ZIP Code destination (see 8.6.4c for overseas military mail).

2. Line 2: “STD MACH 5D,” or “STD NFM MACH 5D,” as applicable.

c. ASF, optional, but required for DBMC prices. Not available for the Buffalo NY ASF in L602. Pallets must contain only parcels or NFMs for the 3-digit ZIP Code groups in L602. Labeling:

1. Line 1: Use L602.

2. Line 2: “STD MACH ASF,” or “STD NFM MACH ASF,” as applicable.

d. BMC, required. Pallets must contain only parcels or NFMs for the 3-digit ZIP Code groups in L601. Labeling:

1. Line 1: Use L601.

2. Line 2: “STD MACH BMC,” or “STD NFM MACH BMC,” as applicable.

e. Origin Mixed BMC (required); no minimum; labeling:

1. Line 1: L601, Column B.

2. Line 2: “STD MACH WKG,” or “STD NFM MACH WKG,” as applicable.

f. Mixed BMC, optional. Labeling:

1. Line 1: “MXD” followed by information in L601, Column B, for BMC serving 3-digit ZIP Code prefix of entry Post Office (or labeled to plant serving entry Post Office if authorized by processing and distribution manager).

2. Line 2: “STD MACH WKG,” or “STD NFM MACH WKG,” as applicable.

[Revise the first sentence in renumbered 8.10.8, and add a new second sentence as follows:]

8.10.8 Standard Mail Irregular Parcels Weighing 2 Ounces or More

Mailers who palletize unbundled or unsacked irregular parcels must make pallets or pallet boxes when there are 250 pounds or more for the destination levels below for DMBC, DSCF, or DDU prices. When prepared at origin, a 200 pound minimum is required for the BMC price. * * *

[Revise items a through e and add new item f as follows:]

a. 5-digit scheme, required. Pallet or pallet box must contain parcels only for the same 5-digit scheme under L606. Mailers may combine NFMs weighing under 6 ounces with irregular parcels under 8.10.7. For 5-digit destinations not part of L606 prepare 5-digit pallets under 8.10.6b. Labeling:

1. Line 1: Use L606.

2. Line 2: “STD IRREG 5D; followed by “SCHEME” (or “SCH”).

b. 5-digit, required. Pallet or pallet box must contain parcels only for the same 5-digit ZIP Code. Labeling:

1. Line 1: city, state, and 5-digit ZIP Code destination (see 8.6.4c for overseas military mail).

2. Line 2: “STD IRREG 5D.”

c. SCF, required. Allowed only for mail deposited at a DSCF to claim SCF price; labeling:

1. For Line 1, L002, Column C.

2. For Line 2, “STD IRREG SCF.”

d. ASF, optional, but required for DBMC prices. Not available for the Buffalo NY ASF in L602. Pallets must contain only parcels or NFMs for the 3-digit ZIP Code groups in L602. Labeling:

1. Line 1: Use L602.

2. Line 2: “STD IRREG ASF”.

e. BMC, required. Pallets must contain only parcels or NFMs for the 3-digit ZIP Code groups in L601. Labeling:

1. Line 1: Use L601.

2. Line 2: “STD MACH BMC,” “STD IRREG BMC”.

f. Origin Mixed BMC (required); no minimum; labeling:

1. Line 1: L601, Column B.

2. Line 2: “STD IRREG BMC”.

g. Mixed BMC, optional. Labeling:

1. Line 1: “MXD” followed by information in L601, Column B, for BMC serving 3-digit ZIP Code prefix of entry Post Office (or labeled to plant serving entry Post Office if authorized by processing and distribution manager).

2. Line 2: “STD IRREG WKG”.

[Revise the first sentence in renumbered 8.10.9, and add a new second sentence as follows:]

8.10.9 Standard Mail Not Flat-Machinable Pieces Weighing Less Than 6 Ounces

Mailers must prepare pieces on pallets or in pallet boxes when there are 250 pounds or more of NFMs for the destination levels below for DMBC, DSCF, or DDU prices. When prepared at origin, a 200 pound minimum is required for the BMC price. * * *

[Revise items a through e and add new item f as follows:]

a. 5-digit scheme, required. Pallet or pallet box must contain NFMs only for the same 5-digit scheme under L606. For 5-digit destinations not part of L606 prepare 5-digit pallets under 8.10.7b. Labeling:

1. Line 1: Use L606.

2. Line 2: “STD NFM 5D”; followed by “SCHEME” (or “SCH”).

b. 5-digit, required. Pallet or pallet box must contain NFMs only for the same 5-digit ZIP Code. Labeling:

1. Line 1: city, state, and 5-digit ZIP Code destination (see 8.6.4c for overseas military mail).

2. Line 2: “STD NFM 5D.”

c. SCF, required. Allowed only for mail deposited at a DSCF to claim SCF price; labeling:

1. For Line 1, L002, Column C.

2. For Line 2, “STD NFM SCF.”

d. ASF, optional, but required for DBMC prices. Not available for the Buffalo NY ASF in L602. Pallets must contain only parcels or NFMs for the 3-digit ZIP Code groups in L602. Labeling:

1. Line 1: Use L602.

2. Line 2: “STD NFM ASF.”

e. BMC, required. Pallets must contain only parcels or NFMs for the 3-digit ZIP Code groups in L601. Labeling:

1. Line 1: Use L601.

2. Line 2: “STD NFM BMC”.

f. Origin Mixed BMC (required); no minimum; labeling:

1. Line 1: L601, Column B.

2. Line 2: “STD NFM BMC”.

g. Mixed BMC, optional. Labeling:

1. Line 1: “MXD” followed by information in L601, Column B, for BMC serving 3-digit ZIP Code prefix of entry Post Office (or labeled to plant serving entry Post Office if authorized by processing and distribution manager).

2. Line 2: “STD NFM WKG”.

* * * * *

[Add new 705.22 to describe the conditions for the Intelligent Mail full-service automation option originally published in August 2008 Federal Register final rule as follows:]

22.0 Full-Service Automation Option

22.1 Description

Access to full-service automation option benefits requires the use of Intelligent Mail barcodes to uniquely identify each mailpiece. In addition to the standards described in 22.2, all pieces entered under the full-service option must individually meet the eligibility requirements for automation prices according to their class and shape. Full-service automation mailings require Intelligent Mail barcodes on mailpieces; Intelligent Mail tray labels on trays and sacks; and Intelligent Mail container placards on pallets or similar containers (when created). Additional requirements include the use of an approved electronic method to transmit postage statements and mailing documentation to the USPS (describing how mailpieces are linked to trays or sacks, and containers, if applicable) and scheduling dropship appointments through the Facility Access and Shipment System (FAST) for destination bulk mail center, destination area distribution center, and destination sectional center facility dropshipments.

22.1.1 Basic Option Pieces Included in Full-Service Automation Mailings

Full-service automation option mailings may include pieces prepared under the basic automation option, but the basic automation option pieces will not be used to meet the eligibility standards for the full-service option and will not receive full-service benefits. Basic automation option pieces bear Intelligent Mail barcodes (under 708.4.0) and meet all eligibility requirements for automation prices.

22.1.2 POSTNET Pieces Included in Full-Service Automation Mailings

Full-service automation option mailings may include automation-compatible pieces bearing POSTNET barcodes. These pieces may not be used to meet the eligibility standards for the full-service option and will not receive full-service benefits.

22.2 Eligibility Standards

[The following introductory text of 22.2 is revised from the Federal Register final rule published August 2008.]

First-Class Mail, Periodicals, and Standard Mail letters and flats and Bound Printed Matter flats meeting eligibility requirements for automation or carrier route prices, except for Standard Mail ECR saturation flats or Standard Mail ECR letters paying ECR flats prices, are eligible for the full-service automation option.

All pieces entered under the full-service automation option must:

a. Bear a unique Intelligent Mail barcode.

b. Be part of a mailing using unique Intelligent Mail tray labels on all trays and sacks.

c. Be part of a mailing using unique Intelligent Mail container barcodes on all destination-entry pallets and other containers prepared under 705.8.0 or as part of a customer/supplier agreement. A customer/supplier agreement is authorized with a service agreement signed by the mailer, the USPS District Manager, Customer Service, and the USPS Processing and Distribution Center manager. The service agreement contains provisions regarding mailer and USPS responsibilities.

d. Be part of a mailing using an approved electronic method to transmit a postage statement and mailing documentation to the PostalOne! system.

e. Be scheduled for an appointment through the Facility Access and Shipment Tracking (FAST) system when deposited as a DBMC, DADC, or DSCF drop-shipment.

22.3 Preparation

22.3.1 Intelligent Mail Barcodes

Mailers must include an Intelligent Mail barcode on each mailpiece as described in 708.4 that accurately encodes the following fields:

a. Barcode ID.

b. Service Type ID.

c. Mailer ID. At the option of the mail owner, the Mailer ID field can be populated with the Mailer ID of the mail owner or mail preparer.

d. Serial number. Except for mail prepared under 22.4.3, each mailpiece must be encoded with a unique serial number. Mailers must ensure that these numbers remain unique for a period of at least 45 days. Serial numbers associated to an individual Mailer ID must not be duplicated within this 45-day period, regardless of the entry location.

e. Delivery point routing code. All Intelligent Mail barcodes must include an accurate delivery point routing code.

22.3.2 Intelligent Mail Tray Labels

All trays and sacks must contain accurately encoded Intelligent Mail tray labels as described in 708.6.5. Mailing documentation, when required, must associate each mailpiece to a corresponding tray or sack, if applicable, as described in 22.3.4. Each tray or sack must be encoded with a unique serial number. Tray or sack serial numbers associated to an individual Mailer ID cannot be duplicated within a 45-day period, regardless of the acceptance location.

22.3.3 Intelligent Mail Container Placards

All required pallets and similar containers (such as all-purpose containers, hampers, and gaylords) and all containers prepared under 705.8.0 in full-service mailings must display container placards that include accurately encoded Intelligent Mail container barcodes as described in 708.6.6. Mailing documentation, when required, must associate each mailpiece (and tray or sack, if applicable) to a corresponding container as described in 22.3.4, unless otherwise authorized by the USPS. Each container must be encoded with a unique serial number. Container barcodes must not be duplicated within a 45-day period, regardless of the acceptance location.

22.3.4 Electronic Documentation

Mailers must electronically submit postage statements and mailing documentation (when required) to the PostalOne! system. Unless otherwise authorized, documentation must describe how each mailpiece is linked to a uniquely identified tray or sack, if applicable, and how each mailpiece and tray or sack is linked to a uniquely identified container (if applicable). The documentation must also meet the requirements in A Guide to Intelligent Mail for Letters and Flats (available at ribbs.usps.gov/). Mailers must transmit postage statements and mailing documentation to the PostalOne! system using Mail.dat, Mail.XML, or Postal Wizard (see 22.4.3).

22.3.5 Scheduling Appointments

Mailers must schedule appointments using the Facility Access and Shipment Tracking (FAST) system for dropship mailings (except for mailings entered at a DDU) or as required in a customer/supplier agreement. Mailers may schedule appointments online using the FAST Web site at fast.usps.com or they may submit appointment requests through PostalOne! FAST Web Services at www.uspspostalone.com, using Mail.XML or Mail.XML with Mail.dat.

22.3.6 Preparation of Containers

Mailings under the full-service automation option may be containerized, when volume warrants, in uniquely identified containers by palletizing bundles, sacks, or trays under standards in 705.8. Mailers required to containerize must make all separations when the volume for any presort level meets a required sortation level, as described in 705.8.5.2 or in the customer/supplier agreement. Full-service mailings containerized under 705.8.0 or as part of a customer/supplier agreement must have Intelligent Mail container placards (under 708.6.6) on the containers.

22.4 Additional Standards

22.4.1 Induction Data

Mailers presenting mailings under the full-service automation option will receive mail induction information (start-the-clock data corresponding to the date and time when the USPS receives the mailing) at no additional charge.

22.4.2 Address Correction Notices

[The following introductory text of 22.4.2 is revised from the Federal Register final rule published August 2008.]

Mailers presenting mailpieces (except for those noted below) that qualify for the full-service option will receive automated address correction notices when the pieces are encoded with Intelligent Mail barcodes with “Address Service Requested” or “Change Service Requested” under standards for OneCode ACS and under the following conditions:

a. Address correction notices will be provided at no additional charge for letters and flats eligible for the full-service option, except for Standard Mail ECR flats, BPM flats dropshipped to DDUs, or BPM carrier route flats.

b. Mailpieces must include the appropriate service type ID in the Intelligent Mail barcode to match the ancillary service requested. See 507.1.5 for mail disposition and address correction combinations by class of mail.

c. A complementary ancillary service request option also must be recorded in the mailer's Address Change Service (ACS) mailer profile. See 507.4.2 for more information about ACS. Address correction notices for mailpieces in full-service mailings are available for:

1. First-Class Mail letters and flats, provided at no charge (printed endorsement not required for letters).

2. Periodicals letters and flats, provided at no charge up to 60 days from first notice (printed endorsement not required). See 507.4.1.1 for charges after 60 days.

3. Standard Mail letters and flats and BPM flats, provided at no charge up to 30 days from first notice. See 507.4.1.1 for charges after 30 days. Standard Mail and BPM pieces must include a printed on-piece endorsement in addition to encoding the ancillary service request into the Intelligent Mail barcode. See 507.4.2 for additional standards.

d. Mailers must use the address correction information provided by the USPS to update their address records in order to receive notices without paying additional fees.

22.4.3 Special Standards—Small Volume Mailings

For mailings of fewer than 10,000 pieces, and postage is affixed to each piece at the correct price or each piece is of identical weight and the mailpieces are separated by price, the serial number field of each Intelligent Mail barcode can be populated with a mailing serial number that is unique to the mailing but common to all pieces in the mailing. This unique mailing serial number must not be reused for a period of 45 days from the date of mailing. These mailings are not required to submit electronic documentation for full-service, only an electronic postage statement. Unique mailing serial numbers must be populated in the Postal Wizard entry screen field or in the Mail.XML messages. Mailers must populate the serial number field of all Intelligent Mail tray or sack labels, and Intelligent Mail container barcodes (when mailings are containerized) with the unique mailing serial number.

* * * * *

707 Periodicals

* * * * *

13.0 Carrier Route Eligibility [Renumber current 13.4 as new 13.5, add new 13.4 as follows:]

13.4 Full-Service Intelligent Mail Eligibility Standards

In addition to other requirements in 6.0, carrier route letters and flats eligible for full-service Intelligent Mail prices (in November 2009) and address correction benefits under 705.22.4.2 must:

a. For carrier route letter, be letter-size under 201.1.0.

b. For carrier route flats, be flat-size under 301.1.0.

c. Be part of a carrier route mailing.

d. Bear an accurate Intelligent Mail barcode encoded with the correct delivery point routing code matching the delivery address and meeting the standards in 202.5.0 (for letters), 302.4.0 (for flats), and 708.4.0. Letters or flats with Intelligent Mail barcodes entered under the full-service automation option also must be part of mailings that meet the standards in 705.22.

* * * * *

14.0 Barcoded (Automation) Price Eligibility

14.1 Basic Standards

14.1.1 General

All pieces in a Periodicals barcoded (automation) price mailing must:

* * * * *

[Revise item c of 14.1.1 to describe new standards for barcoded Periodicals mailings as follows:]

c. Bear an accurate delivery point POSTNET barcode or an Intelligent Mail barcode encoded with the delivery point routing code, matching the delivery address and meeting the standards in 202.5.0 (for letters), 302.4.0 (for flats), and 708.4.0. Mailers must apply the barcode either on the piece or on an insert showing through a window.

* * * * *

708 Technical Specifications

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

* * * * *

Standard Mail

* * * * *

STD Not Flat-Machinable Pieces Less Than 6 Ounces—Nonautomation

[Revise as follows:]

5-digit scheme sacks | 500 | STD NFM 5D SCH
5-digit sacks | 500 | STD NFM 5D
SCF sacks | 507 | STD NFM SCF
ASF sacks | 509 | STD NFM ASF
BMC sacks | 505 | STD NFM BMC
mixed BMC sacks | 506 | STD NFM WKG

STD Not Flat-Machinable Pieces 6 Ounces Or More—Nonautomation

[Revise as follows:]

5-digit scheme sacks | 500 | STD NFM MACH 5D SCH
5-digit sacks | 500 | STD NFM MACH 5D
SCF sacks | 512 | STD NFM MACH SCF
ASF sacks | 503 | STD NFM MACH ASF
BMC sacks | 514 | STD NFM MACH BMC
mixed BMC sacks | 518 | STD NFM MACH WKG

* * * * *

STD Irregular Parcels—Presorted

[Revise as follows:]

STD Irregular Parcels—Presorted

5-digit scheme sacks | 590 | STD IRREG 5D SCH
5-digit sacks | 590 | STD IRREG 5D
SCF sacks | 596 | STD IRREG SCF
ASF sacks | 571 | STD IRREG ASF
BMC sacks | 570 | STD IRREG BMC
mixed BMC sacks | 594 | STD IRREG WKG

* * * * *

6.6 Intelligent Mail Container Placards (Labels)

* * * * *

6.6.2 Intelligent Mail Container Placard Configurations

Intelligent Mail container placards may be produced in two configurations:

[Revise items a and b to delete redundant text and replace with references as follows:]

a. Affixed placard measuring at least 8 inches by 11 inches. See 6.6.3 for placard specifications and 6.6.5 placard placement.

b. Optional self-adhesive placard measuring at least 4 inches by 7 inches. Placards may be prepared in the optional format (see 6.6.6) affixed to the outside of any shrinkwrap or plastic by a self-adhesive or other adhesive means.

* * * * *

6.6.5 Placard Requirements

Mailers using placards bearing Intelligent Mail container barcodes must:

[Revise item a to reflect that pallet placards bearing Intelligent Mail container barcodes do not need to be self-adhesive and affixed to the outside of the plastic wrap until November 29, 2009 by revising the 2nd sentence and adding a new 3rd sentence as follows:]

a. * * * Prior to November 29, 2009, placards measuring at least 8 inches by 11 inches may be affixed to pallets under 705.8.6.1. Effective November 29, 2009, placards must be affixed by self-adhesive or other adhesive means that will not obscure any required element of the placard and remain secure throughout USPS processing.

* * * * *

7.0 Optional Endorsement Lines (OEL)

* * * * *

7.2 OEL Format

* * * * *

Exhibit 7.2.5. OEL Labeling Lists

[Revise exhibit 7.2.5 by removing the “irregular parcels” row from the Standard Mail table and deleting footnote 3.]

* * * * *

Index and Appendices

* * * * *

Labeling Lists

* * * * *

L000 General Use

* * * * *

[Revise the heading and text of L009 to delete “Standard Mail” as follows:]

L009 Mixed ADCs—Periodicals, Package Services Flats, and Irregular Parcels

Mailers must use L009 to label mixed ADC bundles and sacks of Periodicals, Bound Printed Matter, Media Mail, and Library Mail flats. Mailers also must use L009 to label mixed ADC bundles and sacks containing Periodicals irregular parcels; and Bound Printer Matter irregular parcels.

* * * * *

L600 Standard Mail and Package Services

L601 BMCs

L601 describes the service area by individual 3-digit ZIP Code prefix for sorting mail to BMC destinations. Use this list for:

[Revise item a to include all Standard Mail parcels and NFMs as follows;]

a. Standard Mail parcels and NFMs except ASF mail (other than mail for the Buffalo ASF service area) prepared and claimed at DBMC rates. Parcels and NFMs for the Buffalo ASF service area prepared and claimed at DBMC rates must be sorted to the Pittsburgh BMC.

* * * * *

L602 ASFs

L602 describes the service area by individual 3-digit ZIP Code prefix for Standard Mail and Package Services mail that must be sorted to ASFs. Use this list for:

[Revise item a to include all Standard Mail parcels and NFMs as follows;]

a. Standard Mail parcels and NFMs if ASF mail (other than mail for the Buffalo ASF service area) prepared and claimed at DBMC rates. Parcels and NFMs for the Buffalo ASF service area prepared and claimed at DBMC rates must be sorted to the Pittsburgh BMC under L601.

* * * * *

[Delete Labeling Lists L603 and L604 in their entirety.]

* * * * *

We will publish an appropriate amendment to 39 CFR Part 111 to reflect these changes.

Stanley F. Mires,
Chief Counsel, Legislative.

[FR Doc. E9-3481 Filed 2-20-09; 8:45 am]

BILLING CODE 7710-12-P